DEPARTMENT OF THE INTERIOR

Fish and Wildlife Service

50 CFR Part 20

[Docket No. FWS-HQ-MB-2013-0057; FF09M21200-134-FXMB1231099BPP0]

RIN 1018-AY87

Migratory Bird Hunting; Late Seasons and Bag and Possession Limits for Certain Migratory Game Birds

AGENCY: Fish and Wildlife Service, Interior.

ACTION: Final rule.

SUMMARY: This rule prescribes the hunting seasons, hours, areas, and daily bag and possession limits for general waterfowl seasons and those early seasons for which States previously deferred selection. Taking of migratory birds is prohibited unless specifically provided for by annual regulations. This rule permits the taking of designated species during the 2013-14 season.

DATES: This rule is effective on September 21, 2013.

ADDRESSES: You may inspect comments received on the migratory bird hunting regulations during normal business hours at the Service's office in room 4107, Arlington Square Building, 4501 N. Fairfax Drive, Arlington, VA. You may obtain copies of referenced reports from the street address above, or from the Division of Migratory Bird Management's Web site at http://www.fws.gov/migratorybirds/, or at http://www.regulations.gov at Docket No. FWS-HQ-MB-2013-0057.

FOR FURTHER INFORMATION CONTACT: Ron W. Kokel, Division of Migratory Bird Management, U.S. Fish and Wildlife Service, (703) 358-1714.

SUPPLEMENTARY INFORMATION:

Regulations Schedule for 2013

On April 9, 2013, we published in the Federal Register (78 FR 21200) a proposal to amend 50 CFR part 20. The proposal provided a background and overview of the migratory bird hunting regulations process, and addressed the establishment of seasons, limits, and other regulations for hunting migratory game birds under §§ 20.101 through 20.107, 20.109, and 20.110 of subpart K. Major steps in the 2013-14 regulatory cycle relating to open public meetings and Federal Register notifications were also identified in the April 9 proposed rule. Further, we explained that all sections of subsequent documents outlining hunting frameworks and guidelines were organized under numbered headings. Subsequent documents will refer only to numbered items requiring attention. Therefore, it is important to note that we omit those items requiring no attention, and remaining numbered items might be discontinuous or appear incomplete.

On June 14, 2013, we published in the Federal Register (78 FR 35844) a second document providing supplemental proposals for early- and late-season migratory bird hunting regulations. The June 14 supplement also provided detailed information on the 2013-14 regulatory schedule and announced the Service Regulations Committee (SRC) and Flyway Council meetings.

On June 19 and 20, 2013, we held open meetings with the Flyway Council Consultants where the participants reviewed information on the current status of migratory shore and upland game birds and developed recommendations for the 2013-14 regulations for these species plus regulations for migratory game birds in Alaska, Puerto Rico, and the Virgin Islands; special September waterfowl seasons in designated States; special sea duck seasons in the Atlantic Flyway; and extended falconry seasons. In addition, we reviewed and discussed preliminary information on the status of waterfowl as it relates to the development and selection of the regulatory packages for the 2013-14 regular waterfowl seasons.

On July 26, 2013, we published in the Federal Register (78 FR 45376) a third document specifically dealing with the proposed frameworks for early-season regulations. On August 23, 2013, we published in the Federal Register (78 FR 52658) a final rule that contained final frameworks for early migratory bird hunting seasons from which wildlife conservation agency officials from the States, Puerto Rico, and the Virgin Islands selected early-season hunting dates, hours, areas, and limits. Subsequently, on August 28, 2013, we published a final rule in the Federal Register (78 FR 53200) amending subpart K of title 50 CFR part 20 to set hunting seasons, hours, areas, and limits for early seasons.

On July 31-August 1, 2013, we held open meetings with the Flyway Council Consultants at which the participants reviewed the status of waterfowl and developed recommendations for the 2013-14 regulations for these species. Proposed hunting regulations were discussed for late seasons. We published the proposed frameworks for late-season regulations (primarily hunting seasons that start after the Saturday nearest September 24 and most waterfowl seasons not already established) in an August 22, 2013, Federal Register (78 FR 52338). We published final late-season frameworks for migratory game bird hunting regulations, from which State wildlife conservation agency officials selected late-season hunting dates, hours, areas, and limits for 2013-14, in a late September 2013, Federal Register.

The final rule described here is the final in the series of proposed, supplemental, and final rulemaking documents for migratory game bird hunting regulations for 2013-14 and deals specifically with amending subpart K of 50 CFR part 20. It sets hunting seasons, hours, areas, and limits for species subject to late-season regulations and those for early seasons that States previously deferred.

National Environmental Policy Act (NEPA)

The programmatic document, “Second Final Supplemental Environmental Impact Statement: Issuance of Annual Regulations Permitting the Sport Hunting of Migratory Birds (EIS 20130139),” filed with the Environmental Protection Agency (EPA) on May 24, 2013, addresses NEPA compliance by the Service for issuance of the annual framework regulations for hunting of migratory game bird species. We published a notice of availability in the Federal Register on May 31, 2013 (78 FR 32686), and our Record of Decision on July 26, 2013 (78 FR 45376). We also address NEPA compliance for waterfowl hunting frameworks through the annual preparation of separate environmental assessments, the most recent being “Duck Hunting Regulations for 2013-14,” with its corresponding August 19, 2013, finding of no significant impact. In addition, an August 1985 environmental assessment entitled “Guidelines for Migratory Bird Hunting Regulations on Federal Indian Reservations and Ceded Lands” is available from the address indicated under the caption FOR FURTHER INFORMATION CONTACT.

Endangered Species Act Consideration

Section 7 of the Endangered Species Act of 1973, as amended (16 U.S.C. 1531 et seq.), provides that, “The Secretary shall review other programs administered by him and utilize such programs in furtherance of the purposes of this Act” (and) shall “insure that any action authorized, funded, or carried out . . . is not likely to jeopardize the continued existence of any endangered species or threatened species or result in the destruction or adverse modification of [critical] habitat. . . .” Consequently, we conducted formal consultations to ensure that actions resulting from these regulations would not likely jeopardize the continued existence of endangered or threatened species or result in the destruction or adverse modification of their critical habitat. Findings from these consultations are included in a biological opinion, which concluded that the regulations are not likely to jeopardize the continued existence of any endangered or threatened species. Additionally, these findings may have caused modification of some regulatory measures previously proposed, and the final frameworks reflect any such modifications. Our biological opinions resulting from this section 7 consultation are public documents available for public inspection at the address indicated under ADDRESSES.

Regulatory Planning and Review (Executive Orders 12866 and 13563)

Executive Order 12866 provides that the Office of Information and Regulatory Affairs (OIRA) will review all significant rules. OIRA has reviewed this rule and has determined that this rule is significant because it would have an annual effect of $100 million or more on the economy.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

An economic analysis was prepared for the 2013-14 season. This analysis was based on data from the 2011 National Hunting and Fishing Survey, the most recent year for which data are available (see discussion in Regulatory Flexibility Act section below). This analysis estimated consumer surplus for three alternatives for duck hunting (estimates for other species are not quantified due to lack of data). The alternatives are (1) issue restrictive regulations allowing fewer days than those issued during the 2012-13 season, (2) issue moderate regulations allowing more days than those in alternative 1, and (3) issue liberal regulations identical to the regulations in the 2012-13 season. For the 2013-14 season, we chose Alternative 3, with an estimated consumer surplus across all flyways of $317.8-$416.8 million. We also chose alternative 3 for the 2009-10, the 2010-11, the 2011-12, and the 2012-13 seasons. The 2013-14 analysis is part of the record for this rule and is available at http://www.regulations.gov at Docket No. FWS-HQ-MB-2013-0057.

Regulatory Flexibility Act

The annual migratory bird hunting regulations have a significant economic impact on substantial numbers of small entities under the Regulatory Flexibility Act (5 U.S.C. 601 et seq.). We analyzed the economic impacts of the annual hunting regulations on small business entities in detail as part of the 1981 cost-benefit analysis. This analysis was revised annually from 1990-95. In 1995, the Service issued a Small Entity Flexibility Analysis (Analysis), which was subsequently updated in 1996, 1998, 2004, 2008, and 2013. The primary source of information about hunter expenditures for migratory game bird hunting is the National Hunting and Fishing Survey, which is conducted at 5-year intervals. The 2013 Analysis was based on the 2011 National Hunting and Fishing Survey and the U.S. Department of Commerce's County Business Patterns, from which it was estimated that migratory bird hunters would spend approximately $1.5 billion at small businesses in 2013. Copies of the Analysis are available upon request from the Division of Migratory Bird Management (see FOR FURTHER INFORMATION CONTACT) or from our Web site at http://www.fws.gov/migratorybirds/NewReportsPublications/SpecialTopics/SpecialTopics.html#HuntingRegs or at http://www.regulations.gov at Docket No. FWS-HQ-MB-2013-0057.

Small Business Regulatory Enforcement Fairness Act

This rule is a major rule under 5 U.S.C. 804(2), the Small Business Regulatory Enforcement Fairness Act. For the reasons outlined above, this rule will have an annual effect on the economy of $100 million or more. However, because this rule establishes hunting seasons, we are not deferring the effective date under the exemption contained in 5 U.S.C. 808(1).

Paperwork Reduction Act

This final rule does not contain any new information collection that requires approval under the Paperwork Reduction Act of 1995 (44 U.S.C. 3501 et seq.). We may not conduct or sponsor and you are not required to respond to a collection of information unless it displays a currently valid OMB control number. OMB has reviewed and approved the information collection requirements associated with migratory bird surveys and assigned the following OMB control numbers:

• 1018-0010—Mourning Dove Call Count Survey (expires 4/30/2015).

• 1018-0019—North American Woodcock Singing Ground Survey (expire 4/30/2015).

• 1018-0023—Migratory Bird Surveys (expires 4/30/2014). Includes Migratory Bird Harvest Information Program, Migratory Bird Hunter Surveys, Sandhill Crane Survey, and Parts Collection Survey.

Unfunded Mandates Reform Act

We have determined and certify, in compliance with the requirements of the Unfunded Mandates Reform Act, 2 U.S.C. 1502 et seq., that this rulemaking will not impose a cost of $100 million or more in any given year on local or State government or private entities. Therefore, this rule is not a “significant regulatory action” under the Unfunded Mandates Reform Act.

Civil Justice Reform—Executive Order 12988

The Department, in promulgating this rule, has determined that this rule will not unduly burden the judicial system and that it meets the requirements of sections 3(a) and 3(b)(2) of Executive Order 12988.

Takings Implication Assessment

In accordance with Executive Order 12630, this rule, authorized by the Migratory Bird Treaty Act (16 U.S.C. 703-711), does not have significant takings implications and does not affect any constitutionally protected property rights. This rule will not result in the physical occupancy of property, the physical invasion of property, or the regulatory taking of any property. In fact, this rule allows hunters to exercise otherwise unavailable privileges and, therefore, reduce restrictions on the use of private and public property.

Energy Effects—Executive Order 13211

Executive Order 13211 requires agencies to prepare Statements of Energy Effects when undertaking certain actions. While this rule is a significant regulatory action under Executive Order 12866, it is not expected to adversely affect energy supplies, distribution, or use. Therefore, this action is not a significant energy action and no Statement of Energy Effects is required.

Government-to-Government Relationship With Tribes

In accordance with the President's memorandum of April 29, 1994, “Government-to-Government Relations with Native American Tribal Governments” (59 FR 22951), Executive Order 13175, and 512 DM 2, we have evaluated possible effects on Federally-recognized Indian tribes and have determined that there are no effects on Indian trust resources. However, in the April 9 Federal Register, we solicited proposals for special migratory bird hunting regulations for certain Tribes on Federal Indian reservations, off-reservation trust lands, and ceded lands for the 2013-14 migratory bird hunting season. The resulting proposals were contained in a separate August 2, 2013, proposed rule (78 FR 47136). By virtue of these actions, we have consulted with Tribes affected by this rule.

Federalism Effects

Due to the migratory nature of certain species of birds, the Federal Government has been given responsibility over these species by the Migratory Bird Treaty Act. We annually prescribe frameworks from which the States make selections regarding the hunting of migratory birds, and we employ guidelines to establish special regulations on Federal Indian reservations and ceded lands. This process preserves the ability of the States and tribes to determine which seasons meet their individual needs. Any State or Indian tribe may be more restrictive than the Federal frameworks at any time. The frameworks are developed in a cooperative process with the States and the Flyway Councils. This process allows States to participate in the development of frameworks from which they will make selections, thereby having an influence on their own regulations. These rules do not have a substantial direct effect on fiscal capacity, change the roles or responsibilities of Federal or State governments, or intrude on State policy or administration. Therefore, in accordance with Executive Order 13132, these regulations do not have significant federalism effects and do not have sufficient federalism implications to warrant the preparation of a federalism summary impact statement.

Regulations Promulgation

The rulemaking process for migratory game bird hunting must, by its nature, operate under severe time constraints. However, we intend that the public be given the greatest possible opportunity to comment. Thus, when the preliminary proposed rulemaking was published, we established what we believed were the longest periods possible for public comment. In doing this, we recognized that, when the comment period closed, time would be of the essence. That is, if there were a delay in the effective date of these regulations after this final rulemaking, States would have insufficient time to select season dates and limits; to communicate those selections to us; and to establish and publicize the necessary regulations and procedures to implement their decisions. We find that “good cause” exists, within the terms of 5 U.S.C. 553(d)(3) of the Administrative Procedure Act, and therefore, under authority of the Migratory Bird Treaty Act (July 3, 1918), as amended (16 U.S.C. 703-711), these regulations will take effect less than 30 days after publication. Accordingly, with each conservation agency having had an opportunity to participate in selecting the hunting seasons desired for its State or Territory on those species of migratory birds for which open seasons are now prescribed, and consideration having been given to all other relevant matters presented, certain sections of title 50, chapter I, subchapter B, part 20, subpart K, are hereby amended as set forth below.

List of Subjects in 50 CFR Part 20

Exports, Hunting, Imports, Reporting and recordkeeping requirements, Transportation, Wildlife.

Dated: September 12, 2013.
Rachel Jacobson,
Principal Assistant Deputy Secretary for Fish and Wildlife and Parks.

For the reasons set out in the preamble, title 50, chapter I, subchapter B, part 20, subpart K of the Code of Federal Regulations is amended as follows:

PART 20—[AMENDED]

1. The authority citation for part 20 continues to read as follows:

Authority: Migratory Bird Treaty Act, 40 Stat. 755, 16 U.S.C. 703-712; Fish and Wildlife Act of 1956, 16 U.S.C. 742a-j; Pub. L. 106-108, 113 Stat. 1491, Note Following 16 U.S.C. 703.

Note: The following annual regulations provided for by §§ 20.104, 20.105, 20.106, 20.107, and 20.109 of 50 CFR part 20 will not appear in the Code of Federal Regulations because of their seasonal nature.

2. Section 20.104 is amended by:

a. Revising the introductory paragraphs;

b. Adding entries for the following States in alphabetical order to the table;

c. Revising footnotes (1), (2), and (6) following the table; and

d. Adding footnotes (19) and (20) following the table.

The revisions and additions read as follows:

§ 20.104 Seasons, limits, and shooting hours for rails, woodcock, and common snipe.

Subject to the applicable provisions of the preceding sections of this part, areas open to hunting, respective open seasons (dates inclusive), shooting and hawking hours, and daily bag and possession limits for the species designated in this section are prescribed as follows:

Shooting and hawking hours are one-half hour before sunrise until sunset, except as otherwise restricted by State regulations. Area descriptions were published in the August 22, 2013 (78 FR 52338) and August 23, 2013 (78 FR 52658), Federal Registers.

CHECK STATE REGULATIONS FOR ADDITIONAL RESTRICTIONS AND DELINEATIONS OF GEOGRAPHICAL AREAS. SPECIAL RESTRICTIONS MAY APPLY ON FEDERAL AND STATE PUBLIC HUNTING AREAS AND FEDERAL INDIAN RESERVATIONS.

Note: The following seasons are in addition to the seasons published previously in the August 28, 2013, Federal Register (78 FR 53200).

| Sora and Virginia rails | Clapper & King rails | Woodcock | Common snipe
Daily bag limit | 25 (1) | 15 (2) | 3 | 8
Possession limit | 75 (1) | 45 (2) | 9 | 24
ATLANTIC FLYWAY
* * * * * * *
Massachusetts (6) | Sept. 2-Nov. 9 | Closed | Oct. 2-Oct. 26 & Oct. 28-Nov. 16 | Sept. 2-Dec. 16.
* * * * * * *
MISSISSIPPI FLYWAY
* * * * * * *
Louisiana
West Zone | Sept. 14-Sept. 29 & Nov. 9-Jan. 1 | Sept. 14-Sept. 29 & Nov. 9-Jan. 1 | Dec. 18-Jan. 31 | Nov. 9-Dec. 15 & Dec. 21-Feb. 28.
East Zone | Sept. 14-Sept. 29 & Nov. 9-Jan. 1 | Sept. 14-Sept. 29 & Nov. 9-Jan. 1 | Dec. 18-Jan. 31 | Nov. 9-Dec. 8 & Dec. 14-Feb. 28.
Coastal Zone | Sept. 14-Sept. 29 & Nov. 9-Jan. 1 | Sept. 14-Sept. 29 & Nov. 9-Jan. 1 | Dec. 18-Jan. 31 | Nov. 2-Dec. 1 & Dec. 14-Feb. 28.
* * * * * * *
Tennessee
Reelfoot Zone | Nov. 16-Nov. 17 & Nov. 30-Jan. 26 | Closed | Oct. 26-Dec. 9 | Nov. 14-Feb. 28.
State Zone | Nov. 28-Jan. 26 | Closed | Oct. 26-Dec. 9 | Nov. 14-Feb. 28.
Wisconsin
North Zone | Sept. 21-Nov. 19 | Closed | Sept. 21-Nov. 4 | Sept. 21-Nov. 19.
South Zone | Sept. 28-Oct. 6 & Oct. 12-Dec. 1 | Closed | Sept. 21-Nov. 4 | Sept. 28-Oct. 6 & Oct. 12-Dec. 1.
Miss. River Zone | Sept. 21-Sept. 29 & Oct. 12-Dec. 1 | Closed | Sept. 21-Nov. 4 | Sept. 21-Sept. 29 & Oct. 12-Dec. 1
PACIFIC FLYWAY
Arizona (19)
North Zone | Closed | Closed | Closed | Oct. 4-Jan. 12.
South Zone | Closed | Closed | Closed | Oct. 18-Jan. 26.
California | Closed | Closed | Closed | Oct. 19-Feb. 2.
* * * * * * *
Idaho
Zone 1 | Closed | Closed | Closed | Oct. 5-Jan. 17.
Zone 2 | Closed | Closed | Closed | Oct. 12-Jan. 24.
Zone 3 | Closed | Closed | Closed | Oct. 12-Jan. 24.
* * * * * * *
Nevada
Northeast Zone | Closed | Closed | Closed | Sept. 21-Oct. 30 & Nov. 2-Jan. 5.
Northwest Zone | Closed | Closed | Closed | Oct. 12-Oct. 30 & Nov. 2-Jan. 26.
South Zone (20) | Closed | Closed | Closed | Oct. 12-Oct. 30 & Nov. 2-Jan. 26.
* * * * * * *
Oregon
Zone 1 | Closed | Closed | Closed | Nov. 2-Feb. 16.
Zone 2 | Closed | Closed | Closed | Oct. 5-Dec. 1 & Dec. 4-Jan. 19.
* * * * * * *
Washington
East Zone | Closed | Closed | Closed | Oct. 12-Oct. 16 & Oct. 19-Jan. 26.
West Zone | Closed | Closed | Closed | Oct. 12-Oct. 16 & Oct. 19-Jan. 26.
(1) The bag and possession limits for sora and Virginia rails apply singly or in the aggregate of these species.
(2) All bag and possession limits for clapper and king rails apply singly or in the aggregate of the two species and, unless otherwise specified, the limits are in addition to the limits on sora and Virginia rails in all States. In Connecticut, Delaware, Maryland, and New Jersey, the limits for clapper and king rails are 10 daily and 30 in possession.
* * * * * * *
(6) In Massachusetts, the sora rail limits are 5 daily and 15 in possession; the Virginia rail limits are 10 daily and 30 in possession.
* * * * * * *
(19) In Arizona, Ashurst Lake in Unit 5B is closed to common snipe hunting.
(20) In Nevada, the snipe season for the Clarke County portion of the South Zone is only open November 2 to January 26.

3. Section 20.105 is amended as follows:

a. By revising the introductory paragraphs;

b. In paragraph (a), by adding entries for the following States in alphabetical order to the table, and by adding footnote (3) following the table;

c. In paragraph (b), by revising the introductory text, by adding entries for the following States in alphabetical order to the table, by revising the note following the table, and by adding footnote (4) following the table;

d. By revising paragraph (e); and

e. In paragraph (f), by revising the introductory text, by adding entries for the following States in alphabetical order to the table, by revising footnotes (1) and (4) following the table, and by adding footnotes (8), (9), (10), and (11) following the table.

The revisions and additions read as follows:

§ 20.105 Seasons, limits, and shooting hours for waterfowl, coots, and gallinules.

Subject to the applicable provisions of the preceding sections of this part, areas open to hunting, respective open seasons (dates inclusive), shooting and hawking hours, and daily bag and possession limits for the species designated in this section are prescribed as follows:

Shooting and hawking hours are one-half hour before sunrise until sunset, except as otherwise restricted by State regulations.

Area descriptions were published in the August 22, 2013 (78 FR 52338) and August 23, 2013 (78 FR 52658), Federal Registers.

CHECK STATE REGULATIONS FOR ADDITIONAL RESTRICTIONS AND DELINEATIONS OF GEOGRAPHICAL AREAS. SPECIAL RESTRICTIONS MAY APPLY ON FEDERAL AND STATE PUBLIC HUNTING AREAS AND FEDERAL INDIAN RESERVATIONS.

(a) Common Moorhens and Purple Gallinules (Atlantic, Mississippi, and Central Flyways)

Note: The following seasons are in addition to the seasons published previously in the August 28, 2013, Federal Register (78 FR 53200). The zones named in this paragraph are the same as those used for setting duck seasons.

| Season dates | Limits: Bag | Limits: Possession
ATLANTIC FLYWAY
* * * * * * *
Georgia | Nov. 23-Dec. 1 & | 15 | 45
| Dec. 7-Jan. 26 | 15 | 45
* * * * * * *
West Virginia | Oct. 1-Oct. 12 & | 15 | 30
| Dec. 16-Jan. 25 | 15 | 30
MISSISSIPPI FLYWAY
* * * * * * *
Louisiana | Sept. 14-Sept. 29 & | 15 | 45
| Nov. 9-Jan. 1 | 15 | 45
Minnesota (3)
North Zone | Sept. 21-Nov. 19 | 15 | 45
Central Zone | Sept. 21-Sept 29 & | 15 | 45
| Oct. 5-Nov. 24 | 15 | 45
South Zone | Sept. 21-Sept 29 & | 15 | 45
| Oct. 12-Dec. 1 | 15 | 45
* * * * * * *
Tennessee
Reelfoot Zone | Nov. 16-Nov. 17 & | 15 | 45
| Nov. 30-Jan. 26 | 15 | 45
State Zone | Nov. 28-Jan. 26 | 15 | 45
Wisconsin
North Zone | Sept. 21-Nov. 19 | 15 | 45
South Zone | Sept. 28-Oct. 6 & | 15 | 45
| Oct. 12-Dec. 1 | 15 | 45
Mississippi River Zone | Sept. 21-Sept. 29 & | 15 | 45
| Oct. 12-Dec. 1 | 15 | 45
* * * * * * *
PACIFIC FLYWAY
All States | Seasons are in aggregate with coots and listed in paragraph (e).
* * * * * * *
(3) In Minnesota, the daily bag limit is 15 and the possession limit is 45 coots and moorhens in the aggregate.

(b) Sea Ducks (scoter, eider, and long-tailed ducks in Atlantic Flyway)

Note: The following seasons are in addition to the seasons published previously in the August 28, 2013, Federal Register (78 FR 53200).

Within the special sea duck areas, the daily bag limit is 7 scoter, eider, and long-tailed ducks of which no more than 4 may be scoters. Possession limits are three times the daily bag limit. These limits may be in addition to regular duck bag limits only during the regular duck season in the special sea duck hunting areas.

| Season dates | Limits: Bag | Limits: Possession
* * * * * * *
Georgia | Nov. 23-Dec. 1 & | 7 | 21
| Dec. 7-Jan. 26 | 7 | 21
* * * * * * *
Maryland | Oct. 1-Jan. 31 | 5 | 15
* * * * * * *
Massachusetts (4) | Oct. 7-Jan. 31 | 7 | 21
* * * * * * *
North Carolina | Oct. 2-Jan. 31 | 7 | 21
* * * * * * *
South Carolina | Oct. 12-Jan. 26 | 7 | 21
Virginia | Oct. 10-Jan. 31 | 7 | 21
* * * * * * *
Note: Notwithstanding the provisions of this Part 20, the shooting of crippled waterfowl from a motorboat under power will be permitted in Connecticut, Delaware, Georgia, Maine, Maryland, Massachusetts, New Hampshire, New Jersey, New York, North Carolina, Rhode Island, South Carolina, and Virginia in those areas described, delineated, and designated in their respective hunting regulations as special sea duck hunting areas.
(4) In Massachusetts, the daily bag limit may include no more than 4 eiders (only 1 of which may be a hen) and 4 long-tailed ducks.

* * * * *

(e) Waterfowl, Coots, and Pacific-Flyway Seasons for Common Moorhens and Purple Gallinules.

Definitions

The Atlantic Flyway: Includes Connecticut, Delaware, Florida, Georgia, Maine, Maryland, Massachusetts, New Hampshire, New Jersey, New York, North Carolina, Pennsylvania, Rhode Island, South Carolina, Vermont, Virginia, and West Virginia.

The Mississippi Flyway: Includes Alabama, Arkansas, Illinois, Indiana, Iowa, Kentucky, Louisiana, Michigan, Minnesota, Mississippi, Missouri, Ohio, Tennessee, and Wisconsin.

The Central Flyway: Includes Colorado (east of the Continental Divide), Kansas, Montana (Blaine, Carbon, Fergus, Judith Basin, Stillwater, Sweetgrass, Wheatland, and all counties east thereof), Nebraska, New Mexico (east of the Continental Divide except that the Jicarilla Apache Indian Reservation is in the Pacific Flyway), North Dakota, Oklahoma, South Dakota, Texas, and Wyoming (east of the Continental Divide).

The Pacific Flyway: Includes the States of Arizona, California, Colorado (west of the Continental Divide), Idaho, Montana (including and to the west of Hill, Chouteau, Cascade, Meagher, and Park Counties), Nevada, New Mexico (the Jicarilla Apache Indian Reservation and west of the Continental Divide), Oregon, Utah, Washington, and Wyoming (west of the Continental Divide including the Great Divide Basin).

Light Geese: Includes lesser snow (including blue) geese, greater snow geese, and Ross's geese.

Dark Geese: Includes Canada geese, white-fronted geese, emperor geese, brant (except in California, Oregon, Washington, and the Atlantic Flyway), and all other geese except light geese.

Atlantic Flyway

Flyway-Wide Restrictions

Duck Limits: The daily bag limit of 6 ducks may include no more than 4 mallards (2 hen mallards), 2 scaup, 1 black duck, 2 pintails, 2 canvasbacks, 1 mottled duck, 3 wood ducks, 2 redheads, and 1 fulvous tree duck. The possession limit is three times the daily bag limit.

Harlequin Ducks: All areas of the Flyway are closed to harlequin duck hunting.

Merganser Limits: The daily bag limit is 5 mergansers with 15 in possession and may include no more than 2 hooded mergansers daily and 6 in possession. In States that include mergansers in the duck bag limit, the daily limit is the same as the duck bag limit, of which only 2 daily and 6 in possession may be hooded mergansers.

| Season dates | Limits: Bag | Limits: Possession
Connecticut
Ducks and Mergansers: |  | 6 | 18
North Zone | Oct. 9-Oct. 19 & |  |
| Nov. 11-Jan. 7 |  |
South Zone | Oct. 9-Oct. 12 & Nov. 16-Jan. 20 |  |
Coots | Same as for Ducks | 15 | 45
Canada Geese:
AFRP Unit | Oct. 15-Oct. 19 & | 5 | 15
| Nov. 20-Nov. 30 & | 5 | 15
| Dec. 3-Feb. 15 | 5 | 15
NAP H-Unit | Oct. 9-Oct. 19 & | 2 | 6
| Nov. 19-Jan. 15 | 2 | 6
AP Unit | Oct. 15-Oct. 19 & | 3 | 9
| Nov. 16-Jan. 7 | 3 | 9
Special Season | Jan. 16-Feb. 15 | 5 | 15
Light Geese:
North Zone | Oct. 1-Jan. 15 & | 25 |
| Feb. 21-Mar. 10 | 25 |
South Zone | Oct. 1-Nov. 30 & | 25 |
| Jan. 7-Mar. 10 | 25 |
Brant:
North Zone | Dec. 4-Jan. 7 | 2 | 6
South Zone | Dec. 17-Jan. 20 | 2 | 6
Delaware
Ducks | Oct. 25-Nov. 11 & | 6 | 18
| Nov. 25-Nov. 30 & | 6 | 18
| Dec. 12-Jan. 25 | 6 | 18
Mergansers | Same as for Ducks | 5 | 15
Coots | Same as for Ducks | 15 | 45
Canada Geese | Nov. 25-Nov. 30 & | 2 | 6
| Dec. 12-Jan. 31 | 2 | 6
Light Geese (1) | Oct. 1-Jan. 31 | 25 |
| Feb. 8 | 25 |
Brant | Dec. 23-Jan. 25 | 2 | 6
Florida
Ducks | Nov. 23-Dec. 1 & | 6 | 18
| Dec. 7-Jan. 26 | 6 | 18
Mergansers | Same as for Ducks | 5 | 15
Coots | Same as for Ducks | 15 | 45
Canada Geese | Nov. 23-Dec. 1 & | 5 | 15
| Dec. 1-Jan. 30 | 5 | 15
Light Geese | Same as for Ducks | 15 |
Georgia
Ducks | Nov. 23-Dec. 1 & | 6 | 18
| Dec. 7-Jan. 26 | 6 | 18
Mergansers | Same as for Ducks | 5 | 15
Coots | Same as for Ducks | 15 | 45
Canada Geese | Oct. 12-Oct. 27 & | 5 | 15
| Nov. 23-Dec. 1 & | 5 | 15
| Dec. 7-Jan. 26 | 5 | 15
| Same as for Canada |  |
Light Geese | Geese | 5 | 15
Brant | Closed |  |
Maine
Ducks (2): |  | 6 | 18
North Zone | Sept. 23-Nov. 30 |  |
South Zone | Oct. 1-Oct. 19 & |  |
| Nov. 4-Dec. 23 |  |
Coastal Zone | Oct. 1-Oct. 19 & |  |
| Nov. 16-Jan. 4 |  |
Mergansers | Same as for Ducks | 5 | 15
Coots | Same as for Ducks | 5 | 15
Canada Geese:
North Zone | Oct. 1-Dec. 8 | 2 | 6
South Zone | Same as for Ducks | 2 | 6
Coastal Zone | Same as for Ducks | 2 | 6
Light Geese | Oct. 1-Jan. 31 | 25 |
Brant:
North Zone | Oct. 1-Nov. 4 | 2 | 6
South Zone | Oct. 1-Oct. 19 & | 2 | 6
| Nov. 4-Nov. 18 | 2 | 6
Coastal Zone | Oct. 1-Oct. 19 & | 2 | 6
| Nov. 16-Nov. 30 | 2 | 6
Maryland
Ducks and Mergansers (3) | Oct. 12-Oct. 19 & | 6 | 18
| Nov. 9-Nov. 29 & | 6 | 18
| Dec. 17-Jan. 25 | 6 | 18
Coots | Same as for Ducks | 15 | 45
Canada Geese:
RP Zone | Nov. 16-Nov. 29 & | 5 | 15
| Dec. 17-Mar. 5 | 5 | 15
AP Zone | Nov. 16-Nov. 29 & | 2 | 6
| Dec. 17-Jan. 29 | 2 | 6
Light Geese | Oct. 5-Nov. 29 & | 25 |
| Dec. 16-Jan. 29 & | 25 |
| Feb. 8 only | 25 |
Brant | Dec. 23-Jan. 25 | 2 | 6
Massachusetts
Ducks (4): |  | 6 | 18
Western Zone | Oct. 14-Nov. 30 & |  |
| Dec. 9-Dec. 28 |  |
Central Zone | Oct. 15-Nov. 30 & |  |
| Dec. 21-Jan. 11 |  |
Coastal Zone | Oct. 16-Oct. 26 & |  |
| Nov. 15-Jan. 11 |  |
Mergansers | Same as for Ducks | 5 | 15
Coots | Same as for Ducks | 15 | 45
Canada Geese:
NAP Zone:
Central Zone | Oct. 15-Nov. 30 & | 2 | 6
| Dec. 21-Jan. 11 | 2 | 6
(Special season) | Jan. 18-Feb. 15 | 5 | 15
Coastal Zone | Oct. 16-Oct. 26 & | 2 | 6
| Nov. 15-Jan. 11 | 2 | 6
(Special season) (5) | Jan. 18-Feb. 15 | 5 | 15
AP Zone | Oct. 14-Nov. 30 & | 3 | 9
| Dec. 9-Dec. 17 | 3 | 9
Light Geese:
Western Zone | Same as for Ducks | 15 | 45
Central Zone | Same as for Ducks & | 15 | 45
| Jan. 18-Feb. 15 | 15 | 45
Coastal Zone (5) | Same as for Ducks & | 15 | 45
| Jan. 18-Feb. 15 | 15 | 45
Brant:
Western & Central Zone | Closed |  |
Coastal Zone | Nov. 15-Nov. 30 & | 2 | 6
| Dec. 18-Jan. 4 | 2 | 6
New Hampshire
Ducks: |  | 6 | 18
Northern Zone | Oct. 2-Nov. 30 |  |
Inland Zone | Oct. 2-Nov. 3 & |  |
| Nov. 19-Dec. 15 |  |
Coastal Zone | Oct. 3-Oct. 14 & |  |
| Nov. 19-Jan. 5 |  |
Mergansers | Same as for Ducks | 5 | 15
Coots | Same as for Ducks | 15 | 45
Canada Geese:
Northern Zone | Same as for Ducks | 2 | 6
Inland Zone | Same as for Ducks | 2 | 6
Coastal Zone | Same as for Ducks | 2 | 6
Light Geese:
Northern Zone | Oct. 2-Dec. 15 | 25 |
Inland Zone | Oct. 2-Dec. 15 | 25 |
Coastal Zone | Oct. 3-Jan. 5 | 25 |
Brant:
Northern Zone | Oct. 2-Oct. 31 | 2 | 6
Inland Zone | Oct. 2-Oct. 31 | 2 | 6
Coastal Zone | Oct. 3-Nov. 1 | 2 | 6
New Jersey
Ducks: |  | 6 | 18
North Zone | Oct. 12-Oct. 24 & |  |
| Nov. 16-Jan. 11 |  |
South Zone | Oct. 19-Oct. 26 & |  |
| Nov. 16-Jan. 16 |  |
Coastal Zone | Nov. 2-Nov. 12 & |  |
| Nov. 28-Jan. 25 |  |
Mergansers | Same as for Ducks | 5 | 15
Coots | Same as for Ducks | 15 | 45
Canada and White-fronted Geese:
North Zone | Nov. 16-Nov. 30 & | 3 | 9
| Dec. 14-Jan. 25 & | 3 | 9
South Zone | Nov. 16-Nov. 30 & | 3 | 9
| Dec. 14-Jan. 25 & | 3 | 9
Coastal Zone | Nov. 28-Dec. 7 & | 3 | 9
| Dec. 10-Jan. 25 | 3 | 9
Special season | Jan. 27-Feb. 15 | 5 | 15
Light Geese:
North Zone | Oct. 17-Feb. 15 | 25 |
South Zone | Oct. 17-Feb. 15 | 25 |
Coastal Zone | Oct. 17-Feb. 15 | 25 |
Brant:
North Zone | Nov. 16-Nov. 30 & | 2 | 6
| Dec. 24-Jan. 11 | 2 | 6
South Zone | Oct. 19-Oct. 26 & | 2 | 6
| Nov. 16-Dec. 12 | 2 | 6
Coastal Zone | Nov. 2-Nov. 12 & | 2 | 6
| Dec. 21-Jan. 14 | 2 | 6
New York
Ducks and Mergansers: |  | 6 | 18
Long Island Zone | Nov. 28-Jan. 26 |  |
Lake Champlain Zone | Oct. 9-Oct. 13 & |  |
| Oct. 26-Dec. 19 |  |
Northeastern Zone | Oct. 5-Oct. 13 & |  |
| Oct. 26-Dec. 15 |  |
Southeastern Zone | Oct. 12-Oct. 20 & |  |
| Nov. 17-Jan. 6 |  |
Western Zone | Oct. 26-Dec. 8 & |  |
| Dec. 28-Jan. 12 |  |
Coots | Same as for Ducks | 15 | 45
Canada Geese:
Western Long Island (AFRP) | Oct. 5-Oct. 20 & |  |
| Nov. 28-Feb. 26 | 8 | 24
Central Long Island (NAP-L) | Nov. 28-Feb. 5 & | 3 | 9
Eastern Long Island (NAP-H) | Dec. 3-Jan. 31 | 2 | 6
Lake Champlain (AP) Zone | Oct. 10-Nov. 28 | 3 | 9
Northeast (AP) Zone | Oct. 26-Nov. 17 & | 3 | 9
| Nov. 19-Dec. 15 | 3 | 9
East Central (AP) Zone | Oct. 26-Nov. 15 & | 3 | 9
| Nov. 23-Dec. 21 | 3 | 9
Hudson Valley (AP) Zone | Oct. 26-Nov. 15 & | 3 | 9
| Dec. 7-Jan. 4 | 3 | 9
West Central (AP) Zone | Oct. 26-Nov. 24 & | 3 | 9
| Dec. 28-Jan. 16 | 3 | 9
South (AFRP) | Oct. 26-Dec. 18 & | 5 | 15
| Dec. 28-Jan. 12 & | 5 | 15
| Mar. 1-Mar. 10 | 5 | 15
Special season | Feb. 6-Feb. 12 | 5 | 15
Light Geese (6):
Long Island Zone | Nov. 24-Mar. 10 | 25 |
Lake Champlain Zone | Oct. 1-Dec. 29 | 25 |
Northeastern Zone | Oct. 1-Jan. 15 | 25 |
Southeastern Zone | Oct. 1-Jan. 15 | 25 |
Western Zone | Oct. 1-Jan. 15 | 25 |
Brant:
Long Island Zone | Dec. 28-Jan. 26 | 2 | 6
Lake Champlain Zone | Oct. 9-Nov. 7 | 2 | 6
Northeastern Zone | Oct. 5-Nov. 3 | 2 | 6
Southeastern Zone | Oct. 26-Nov. 24 | 2 | 6
Western Zone | Oct. 12-Nov. 10 | 2 | 6
North Carolina
Ducks (7) | Oct. 2-Oct. 5 & | 6 | 18
| Nov. 9-Nov. 30 & | 6 | 18
| Dec. 14-Jan. 25 | 6 | 18
Mergansers | Same as for Ducks | 5 | 15
Coots | Same as for Ducks | 15 | 45
Canada Geese:
RP Hunt Zone | Oct. 2-Oct. 12 & | 5 | 15
| Nov. 9-Nov. 30 & | 5 | 15
| Dec. 14-Feb. 8 | 5 | 15
SJBP Hunt Zone | Oct. 2-Oct. 30 & | 5 | 15
| Nov. 9-Dec. 31 | 5 | 15
Northeast Hunt Zone (8) | Jan. 10-Jan. 25 | 1 | 3
Light Geese (9) | Oct. 16-Oct. 19 & | 25 |
| Nov. 9-Mar. 8 | 25 |
Brant | Dec. 23-Jan. 25 | 2 | 6
Pennsylvania
Ducks: |  | 6 | 18
North Zone | Oct. 12-Nov. 30 & |
| Dec. 24-Jan. 11 |  |
South Zone | Oct. 19-Oct. 26 & |  |
| Nov. 15-Jan. 15 |  |
Northwest Zone | Oct. 12-Dec. 14 |  |
| Dec. 27-Jan. 1 |  |
Lake Erie Zone | Oct. 28-Jan. 4 |  |
Mergansers | Same as for Ducks | 5 | 15
Coots | Same as for Ducks | 15 | 45
Canada Geese:
Eastern (AP) Zone | Nov. 15-Nov. 30 & | 3 | 9
| Dec. 16-Jan. 25 | 3 | 9
SJBP Zone | Oct. 12-Nov. 30 & | 3 | 9
| Dec. 16-Jan. 24 | 3 | 9
Resident (RP) Zone | Oct. 26-Nov. 30 & | 5 | 15
| Dec. 18-Jan. 15 & | 5 | 15
| Feb. 1-Feb. 28 | 5 | 15
Light Geese:
Eastern (AP) Zone | Oct. 1-Jan. 25 | 25 |
SJBP Zone | Oct. 1-Jan. 24 | 25 |
Resident (RP) Zone | Oct. 28-Feb. 28 | 25 |
Brant | Oct. 12-Nov. 15 | 2 | 6
Rhode Island
Ducks | Oct. 11-Oct. 14 & | 6 | 12
| Nov. 25-Jan. 19 | 6 | 12
Mergansers | Same as for Ducks | 5 | 10
Coots | Same as for Ducks | 15 | 30
Canada Geese | Nov. 21-Jan. 19 | 2 | 4
Special season | Jan. 24-Feb. 9 | 5 | 10
Light Geese | Oct. 5-Jan. 19 | 15 |
Brant | Dec. 21-Jan. 19 | 2 | 4
South Carolina
Ducks (10) | Nov. 23-Dec. 1 & | 6 | 18
| Dec. 7-Jan. 26 | 6 | 18
Mergansers (11) | Same as for Ducks | 5 | 15
Coots | Same as for Ducks | 15 | 45
Canada and White-fronted Geese (12) | Same as for Ducks & | 5 | 15
| Feb. 6-Feb. 15 | 5 | 15
Light Geese | Same as for Ducks | 25 |
Brant | Dec. 28-Jan. 26 | 2 | 6
Vermont
Ducks: |  | 6 | 18
Lake Champlain Zone | Oct. 9-Oct 13 & |  |
| Oct. 26-Dec. 19 |  |
Interior Zone | Oct. 9-Dec. 7 |  |
Connecticut River Zone | Oct. 2-Nov. 3 & |  |
| Nov. 19-Dec. 15 |  |
Mergansers | Same as for Ducks | 5 | 15
Coots | Same as for Ducks | 15 | 45
Canada Geese:
Lake Champlain Zone | Oct. 10-Nov. 28 | 3 | 9
Interior Zone | Oct. 10-Nov. 28 | 3 | 9
Connecticut River Zone | Oct. 2-Nov. 3 & | 2 | 6
| Nov. 19-Dec. 15 | 2 | 6
Light Geese:
Lake Champlain Zone | Oct. 1-Dec. 29 | 25 |
Interior Zone | Oct. 1-Dec. 29 | 25 |
Connecticut River Zone | Oct. 2-Dec. 15 | 25 |
Brant:
Lake Champlain Zone | Oct. 9-Nov. 7 | 2 | 6
Interior Zone | Oct. 9-Nov. 7 | 2 | 6
Connecticut River Zone | Oct. 2-Oct. 31 | 2 | 6
Virginia
Ducks (13) | Oct. 10-Oct. 14 & | 6 | 18
| Nov. 16-Nov. 30 & | 6 | 18
| Dec. 7-Jan. 25 | 6 | 18
Mergansers | Same as for Ducks | 5 | 15
Coots | Same as for Ducks | 15 | 45
Canada Geese:
Eastern (AP) Zone | Nov. 16-Nov. 30 & | 2 | 6
| Dec. 18-Jan. 29 | 2 | 6
Western (SJBP) Zone | Nov. 16-Nov. 30 & | 3 | 9
| Dec. 14-Jan. 14 & | 3 | 9
(Special season) | Jan. 15-Feb. 15 | 5 | 15
Western (RP) Zone | Nov. 16-Nov. 30 & | 5 | 15
| Dec. 7-Feb. 22 | 5 | 15
Light Geese | Oct. 10-Jan. 31 | 25 |
Brant | Dec. 23-Jan. 25 | 2 | 6
West Virginia
Ducks (14) | Oct. 1-Oct. 12 & | 6 | 18
| Nov. 11-Nov. 16 & | 6 | 18
| Dec. 16-Jan. 25 | 6 | 18
Mergansers | Same as for Ducks | 5 | 15
Coots | Same as for Ducks | 15 | 45
Canada Geese | Oct. 1-Oct. 26 & | 5 | 15
| Nov. 11-Nov. 16 & | 5 | 15
| Dec. 16-Jan. 31 | 5 | 15
Light Geese | Same as for Canada Geese | 5 | 15
Brant | Dec. 27-Jan. 25 | 2 | 6
(1) In Delaware, the Bombay Hook NWR snow goose season is open Mondays, Wednesdays, and Fridays only.
(2) In Maine, the daily bag limit may include no more than 4 of any species, with no more than 12 of any one species in possession. The season for Barrow's goldeneye is closed.
(3) In Maryland, the black duck season is closed October 12 through October 19.
(4) In Massachusetts, the daily bag limit may include no more than 4 of any single species in addition to the flyway-wide bag restrictions.
(5) In Massachusetts, the January 18 to February 15 portion of the season in the Coastal Zone is restricted to that portion of the Coastal Zone north of the Cape Cod Canal.
(6) In New York, the use of electronic calls and shotguns capable of holding more than 3 shotshells are allowed for hunting of light geese on any day when all other waterfowl hunting seasons are closed.
(7) In North Carolina, the season is closed for black ducks October 2 through October 5 and November 9 through November 22. The daily bag limit for black and mottled ducks is combined with no more than 1 allowed in the daily bag.
(8) In North Carolina, a permit is required to hunt Canada geese in the Northeast Hunt Zone.
(9) In North Carolina, electronic calls and unplugged shotguns are allowed for light geese from February 11 through March 8.
(10) In South Carolina, the daily bag limit of 6 may not exceed 1 black-bellied whistling duck, and 1 black duck or 1 mottled duck in the aggregate.
(11) In South Carolina, the daily bag limit for mergansers may include no more than 1 hooded merganser.
(12) In South Carolina, the daily bag limit may include no more than 2 white-fronted geese.
(13) In Virginia, the season is closed for black ducks October 10 through October 14.
(14) In West Virginia, the daily bag limit may include no more than 4 long-tailed ducks, and the season is closed for eiders, whistling ducks, and mottled ducks.

Mississippi Flyway

Flyway-Wide Restrictions

Duck Limits: The daily bag limit of 6 ducks may include no more than 4 mallards (no more than 2 of which may be females), 1 mottled duck, 1 black duck, 2 pintails, 2 canvasbacks, 2 redheads, 3 scaup, and 3 wood ducks. The possession limit is three times the daily bag limit.

Merganser Limits: The merganser limits include no more than 2 hooded mergansers daily and 6 in possession. In states that include mergansers in the duck bag limit, the daily limit is the same as the duck bag limit, of which only 2 daily and 6 in possession may be hooded mergansers.

| Season dates | Limits: Bag | Limits: Possession
Alabama
Ducks: |  | 6 | 18
North Zone | Nov. 28-Jan. 26 |  |
South Zone | Same as North Zone |  |
Mergansers | Same as for Ducks | 5 | 15
Coots | Same as for Ducks | 15 | 45
Dark Geese:
North Zone:
SJBP Zone | Sept. 21-Oct. 8 & | 3 | 9
| Nov. 28-Jan. 26 | 3 | 9
Rest of North Zone | Same as SJBP Zone | 3 | 9
South Zone | Same as Rest of North Zone | 3 | 9
White-fronted Geese:
North Zone:
SJBP Zone | Same as for Dark Geese | 2 | 6
Rest of North Zone | Same as SJBP Zone | 2 | 6
South Zone | Same as Rest of North Zone | 2 | 6
Light Geese:
North Zone:
Monroe and Escambia Counties | Sept. 21-Oct. 8 & | 5 | 15
| Oct. 26-Nov. 10 & | 5 | 15
| Nov. 28-Jan. 26 | 5 | 15
SJBP Zone | Same as Rest of North Zone | 5 | 15
Rest of North Zone | Same as for Dark Geese | 5 | 15
South Zone | Same as for Dark Geese | 5 | 15
Arkansas
Ducks | Nov. 23-Dec. 1 & | 6 | 18
| Dec. 5-Dec. 23 & | 6 | 18
| Dec. 26-Jan. 26 | 6 | 18
Mergansers | Same as for Ducks | 5 | 15
Coots | Same as for Ducks | 15 | 45
Canada Geese:
Northwest Zone | Sept. 21-Sept. 30 & | 2 | 6
| Nov. 14-Jan. 26 | 2 | 6
Remainder of State | Nov. 14-Jan. 26 | 2 | 6
White-fronted Geese | Nov. 14-Jan. 26 | 2 | 6
Brant | Closed |  |
Light Geese | Nov. 14-Jan. 26 | 20 |
Illinois
Ducks: |  | 6 | 18
North Zone | Oct. 19-Dec. 17 |  |
Central Zone | Oct. 26-Dec. 24 |  |
South Central Zone | Nov. 9-Jan. 7 |  |
South Zone | Nov. 28-Jan. 26 |  |
Mergansers | Same as for Ducks | 5 | 15
Coots | Same as for Ducks | 15 | 45
Canada Geese:
North Zone | Oct. 19-Jan. 16 | 2 | 6
Central Zone | Oct. 26-Nov. 17 & | 2 | 6
| Nov. 26-Jan. 31 | 2 | 6
South Central Zone | Nov. 9-Jan. 31 | 2 | 6
South Zone | Nov. 28-Jan. 31 | 2 | 6
White-fronted Geese:
North Zone | Nov. 4-Jan. 16 | 2 | 6
Central Zone | Nov. 19-Jan. 31 | 2 | 6
South Central Zone | Nov. 19-Jan. 31 | 2 | 6
South Zone | Nov. 28-Jan. 31 | 2 | 6
Light Geese:
North Zone | Oct. 19-Jan. 16 | 20 |
Central Zone | Oct. 26-Jan. 31 | 20 |
South Central Zone | Nov. 9-Jan. 31 | 20 |
South Zone | Nov. 28-Jan. 31 | 20 |
Brant | Same as for Light Geese | 1 | 3
Indiana
Ducks: |  | 6 | 18
North Zone | Oct. 19-Dec. 8 & |  |
| Dec. 21-Dec. 29 |  |
Central Zone | Oct. 26-Dec. 8 & |  |
| Dec. 21-Jan. 5 |  |
South Zone | Nov. 2-Nov. 10 & |  |
| Nov. 30-Jan. 19 |  |
Mergansers | Same as for Ducks | 5 | 15
Coots | Same as for Ducks | 15 | 45
Canada Geese:
North Zone | Oct. 19-Nov. 10 & | 3 | 9
| Nov. 28-Jan. 5 & | 3 | 9
| Jan. 18-Jan. 29 | 3 | 9
Central Zone | Oct. 26-Dec. 8 & | 3 | 9
| Dec. 21-Jan. 5 & | 3 | 9
| Jan. 18-Jan. 31 | 3 | 9
South Zone | Nov. 2-Nov. 12 & | 3 | 9
| Nov. 30-Jan. 31 | 3 | 9
Late Season Zone | Feb. 1-Feb. 15 | 5 | 15
White-fronted Geese:
North Zone | Same as for Canada Geese | 2 | 6
Central Zone | Same as for Canada Geese | 2 | 6
South Zone | Same as for Canada Geese | 2 | 6
Brant:
North Zone | Same as for Canada Geese | 1 | 3
Central Zone | Same as for Canada Geese | 1 | 3
South Zone | Same as for Canada Geese | 1 | 3
Light Geese:
North Zone | Oct. 19-Jan. 31 | 20 |
Central Zone | Same as North Zone | 20 |
South Zone | Same as North Zone | 20 |
Iowa
Ducks: |  | 6 | 18
North Zone | Sept. 21-Sept. 25 & |  |
| Oct. 12-Dec. 5 |  |
Missouri River Zone | Sept. 21-Sept. 25 & |  |
| Oct. 26-Dec 19 |  |
South Zone | Sept. 21-Sept. 25 & |  |
| Oct. 19-Dec. 12 |  |
Mergansers | Same as for Ducks | 5 | 15
Coots | Same as for Ducks | 15 | 45
Canada Geese:
North Zone | Sept. 28-Oct. 31 & | 2 | 6
| Nov. 1-Jan. 3 | 3 | 9
Missouri River Zone | Oct. 12-Oct. 31 & | 2 | 6
| Nov. 1-Jan. 17 | 3 | 9
South Zone | Oct. 5-Oct. 31 & | 2 | 6
| Nov. 1-Jan. 10 | 3 | 9
White-fronted Geese:
North Zone | Sept. 28-Dec. 10 | 2 | 6
Missouri River Zone | Oct. 12-Dec. 24 | 2 | 6
South Zone | Oct. 5-Dec. 17 | 2 | 6
Brant:
North Zone | Same as for Canada geese | 1 | 3
Missouri River Zone | Same as for Canada geese | 1 | 3
South Zone | Same as for Canada geese | 1 | 3
Light Geese:
North Zone | Sept. 28-Jan. 12 | 20 |
Missouri River Zone | Oct. 12-Jan. 17 | 20 |
South Zone | Oct. 5-Jan. 17 | 20 |
Kentucky
Ducks |  | 6 | 18
West Zone | Nov. 28-Jan. 26 |  |
East Zone | Same as West Zone |  |
Mergansers | Same as for Ducks | 5 | 15
Coots | Same as for Ducks | 15 | 45
Canada Geese | Nov. 28-Jan. 31 | 3 | 9
White-fronted Geese | Nov. 28-Jan. 31 | 2 | 6
Brant | Nov. 28-Jan. 31 | 2 | 6
Light Geese | Nov. 28-Jan. 31 | 20 |
Louisiana
Ducks: |  | 6 | 18
West Zone | Nov. 16-Dec. 15 & |  |
| Dec. 21-Jan. 19 |  |
East Zone (including Catahoula Lake) | Nov. 23-Dec. 8 & |  |
| Dec. 14-Jan. 26 |  |
Coastal Zone | Nov. 9-Dec. 1 & |  |
| Dec. 14-Jan. 19 |  |
Mergansers | Same as for Ducks | 5 | 15
Coots | Same as for Ducks | 15 | 45
Canada Geese (1):
West Zone | Nov. 16-Dec. 15 & | 3 | 9
| Dec. 21-Jan. 31 | 3 | 9
East Zone | Nov. 9-Dec. 8 & | 3 | 9
| Dec. 14-Jan. 26 | 3 | 9
Coastal Zone | Nov. 9-Dec. 1 & | 3 | 9
| Dec. 14-Jan. 31 | 3 | 9
White-fronted (1):
West Zone | Nov. 16-Dec. 15 & | 2 | 6
| Dec. 21-Feb. 2 | 2 | 6
East Zone | Nov. 9-Dec. 8 & | 2 | 6
| Dec. 14-Jan. 26 | 2 | 6
Coastal Zone | Nov. 9-Dec. 1 & | 2 | 6
| Dec. 14-Feb. 2 | 2 | 6
Brant | Closed |  |
Light Geese
West Zone | Same as for White-fronted | 20 |
East Zone | Same as for White-fronted | 20 |
Coastal Zone | Same as for White-fronted | 20 |
Michigan
Ducks (2): |  | 6 | 18
North Zone | Sept. 21-Nov. 10 & |  |
| Nov. 23-Dec. 1 |  |
Middle Zone | Oct. 5-Dec. 1 & |  |
| Dec. 14-Dec. 15 |  |
South Zone | Oct. 12-Dec. 8 & |  |
| Dec. 28-Dec. 29 |  |
Mergansers | Same as for Ducks | 5 | 15
Coots | Same as for Ducks | 15 | 45
Canada Geese:
North Zone | Sept. 11-Dec. 11 | 2 | 6
Middle Zone | Sept. 21-Sept. 29 & | 2 | 6
| Oct. 5-Dec. 26 | 2 | 6
South Zone:
Muskegon Wastewater GMU | Oct. 16-Nov. 13 & | 2 | 6
| Dec. 1-Dec. 22 | 2 | 6
Allegan County GMU | Nov. 2-Jan. 31 | 2 | 6
Saginaw County GMU | Sept. 21-Sept. 23 & | 2 | 6
| Oct. 12-Dec. 8 & | 2 | 6
| Dec. 28-Jan. 27 | 2 | 6
Tuscola/Huron GMU | Sept. 21-Sept. 27 & | 2 | 6
| Oct. 12-Dec. 8 & | 2 | 6
| Dec. 28-Jan. 23 | 2 | 6
Remainder of South Zone | Sept. 21-Sept. 23 & | 2 | 6
| Oct. 12-Dec. 8 & | 2 | 6
| Dec. 28-Dec. 29 | 2 | 6
Southern MI Late Season (3) | Jan. 18-Feb. 15 | 5 | 15
White-fronted Geese:
North Zone | Sept. 11-Dec. 7 | 1 | 3
Middle Zone | Oct. 5-Dec. 26 | 1 | 3
South Zone | Oct. 12-Dec. 8 & | 1 | 3
| Dec. 28-Dec. 29 & | 1 | 3
| Jan. 18-Jan. 31 | 1 | 3
Light Geese:
North Zone | Same as for Canada geese | 20 |
Middle Zone | Same as for Canada geese | 20 |
South Zone | Oct. 12-Dec. 8 & | 20 |
| Dec. 28-Dec. 29 & | 20 |
| Jan. 18-Feb. 15 | 20 |
Brant:
North Zone | Same as for White-fronted geese | 1 | 3
Middle Zone | Same as for White-fronted geese | 1 | 3
South Zone | Same as for White-fronted geese | 1 | 3
Minnesota
Ducks: |  | 6 | 18
North Zone | Sept. 21-Nov. 19 |  |
Central Zone | Sept. 21-Sept. 29 & |  |
| Oct. 5-Nov. 24 |  |
South Zone | Sept. 21-Sept. 29 & |  |
| Oct. 12-Dec. 1 |  |
Mergansers | Same as for Ducks | 5 | 15
Coots (4) | Same as for Ducks | 15 | 45
Geese:
North Zone: | Sept. 21-Dec. 16 |  |
Canada |  | 3 | 9
White-fronted and Brant |  | 1 | 3
Light Geese |  | 20 |
Central Zone: | Sept. 21-Sept. 29 & |  |
| Oct. 5-Dec. 21 |  |
Canada |  | 3 | 9
White-fronted and Brant |  | 1 | 3
Light Geese |  | 20 |
South Zone: | Sept. 21-Sept. 29 & |  |
| Oct. 12-Dec. 28 |  |
Canada |  | 3 | 9
White-fronted and Brant |  | 1 | 3
Light Geese |  | 20 |
Mississippi
Ducks | Nov. 22-Nov. 24 & | 6 | 18
| Nov. 29-Dec. 1 & | 6 | 18
| Dec. 4-Jan. 26 | 6 | 18
Mergansers | Same as for Ducks | 5 | 15
Coots | Same as for Ducks | 15 | 45
Canada Geese | Nov. 14-Jan. 26 | 3 | 9
White-fronted | Nov. 14-Jan. 26 | 2 | 6
Brant | Same as for Canada geese | 1 | 3
Light Geese | Same as for Canada geese | 20 |
Missouri
Ducks and Mergansers: |  | 6 | 18
North Zone | Oct. 26-Dec. 24 |  |
Middle Zone | Nov. 2-Dec. 31 |  |
South Zone | Nov. 28-Jan. 26 |  |
Coots | Same as for Ducks | 15 | 45
Canada Geese:
North Zone | Oct. 5-Oct. 31 & | 3 | 9
| Nov. 28-Jan. 31 | 3 | 9
Middle Zone | Same as North Zone | 3 | 9
South Zone | Same as North Zone | 3 | 9
White-fronted Geese:
North Zone | Nov. 28-Jan. 31 | 2 | 6
Middle Zone | Same as North Zone | 2 | 6
South Zone | Same as North Zone | 2 | 6
Brant:
North Zone | Same as for Canada geese | 1 | 3
Middle Zone | Same as for Canada geese | 1 | 3
South Zone | Same as for Canada geese | 1 | 3
Light Geese:
North Zone | Oct. 26-Jan. 31 | 20 |
Middle Zone | Same as North Zone | 20 |
South Zone | Same as North Zone | 20 |
Ohio
Ducks (2): |  | 6 | 18
Lake Erie Marsh Zone | Oct. 12-Oct. 27 & |  |
| Nov. 9-Dec. 22 |  |
North Zone | Oct. 19-Nov. 3 & |  |
| Nov. 30-Jan. 12 |  |
South Zone | Oct. 19-Nov. 3 & |  |
| Dec. 14-Jan. 26 |  |
Mergansers | Same as for Ducks | 5 | 15
Coots | Same as for Ducks | 15 | 45
Canada Geese:
Lake Erie Goose Zone | Oct. 12- Oct. 27 & | 3 | 9
| Nov. 9-Jan. 9 | 3 | 9
North Zone | Oct. 19-Nov. 3 & | 3 | 9
| Nov. 30-Jan. 30 | 3 | 9
South Zone | Oct. 19-Nov. 3 & | 3 | 9
| Nov. 30-Jan. 30 | 3 | 9
White-fronted Geese | Same as for Canada geese | 1 | 3
Brant | Same as for Canada geese | 1 | 3
Light Geese | Same as for Canada geese | 10 | 30
Tennessee
Ducks: |  | 6 | 18
Reelfoot Zone | Nov. 16-Nov. 17 & |  |
| Nov. 30-Jan. 26 |  |
State Zone | Nov. 28-Jan. 26 |  |
Mergansers | Same as for Ducks | 5 | 15
Coots | Same as for Ducks | 15 | 45
Canada Geese:
Northwest Zone | Oct. 12-Oct. 16 & | 2 | 6
| Nov. 16-Nov. 17 & | 2 | 6
| Nov. 30-Feb. 8 | 2 | 6
Southwest Zone | Oct. 12-Oct. 29 & | 2 | 6
| Nov. 28-Jan. 26 | 2 | 6
Kentucky/Barkley Lakes Zone | Same as Southwest Zone | 2 | 6
Rest of State | Same as Southwest Zone | 2 | 6
White-fronted Geese | Nov. 28-Feb. 8 | 2 | 6
Brant | Nov. 23-Jan. 31 | 2 | 6
Light Geese | Nov. 24-Mar. 10 | 20 |
Wisconsin
Ducks (2): |  | 6 | 18
North Zone | Sept. 21-Nov. 19 |  |
South Zone | Sept. 28-Oct. 6 & |  |
| Oct. 12-Dec. 1 |  |
Mississippi River Zone | Sept. 21-Sept. 29 & |  |
| Oct. 12-Dec. 1 |  |
Mergansers | Same as for Ducks | 5 | 15
Coots | Same as for Ducks | 15 | 45
Canada Geese:
North Zone | Sept. 16-Dec. 16 | 2 | 6
South Zone: |  |  |
Horicon Zone | Sept. 16-Dec. 16 | 2 | 6
Mississippi River Subzone | Sept. 21-Sept. 29 & | 2 | 6
| Oct. 12-Jan. 2 | 2 | 6
Remainder of South Zone | Sept. 16-Oct. 6 & | 2 | 6
| Oct. 12-Dec. 21 | 2 | 6
White-fronted Geese:
North Zone | Sept. 20-Dec. 16 | 2 | 6
South Zone:
Horicon Zone | Sept. 20-Dec. 16 | 1 | 3
Mississippi River Subzone | Sept. 25-Sept. 29 & | 2 | 6
| Oct. 12-Jan. 2 | 2 | 6
Remainder of South Zone | Sept. 20-Oct. 6 & | 2 | 6
| Oct. 12-Dec. 21 | 2 | 6
Brant | Same as for Canada geese | 2 | 6
Light Geese | Same as for Canada geese | 20 |
(1) In Louisiana, during the Canada goose season, the daily bag limit is 3 dark geese (whitefronts and Canada geese) with no more than 2 white-fronted geese. Possession limits are three times the daily bag limits.
(2) In Michigan, Ohio, and Wisconsin, the daily bag limit may include no more than one hen mallard.
(3) In Michigan, the Southern Michigan Late Canada goose season excludes the Goose Management Units (GMUs).
(4) In Minnesota, the daily bag limit is 15 and the possession limit is 45 coots and moorhens in the aggregate.

Central Flyway

Flyway-Wide Restrictions

Duck Limits: The daily bag limit is 6 ducks, which may include no more than 5 mallards (2 female mallards), 1 mottled duck, 2 pintails, 2 canvasbacks, 2 redheads, 3 scaup, and 3 wood ducks. The possession limit is three times the daily bag limit.

Merganser Limits: The daily bag limit is 5 mergansers with 15 in possession and may include no more than 2 hooded mergansers daily and 6 in possession. In States that include mergansers in the duck bag limit, the daily limit is the same as the duck bag limit, of which only 2 daily and 6 in possession may be hooded mergansers.

| Season dates | Limits: Bag | Limits: Possession
Colorado
Ducks |  | 6 | 18
Southeast Zone | Oct. 23-Jan. 26 |  |
Northeast Zone | Oct. 12-Dec. 2 & |  |
| Dec. 14-Jan. 26 |  |
Mountain/Foothills Zone | Oct. 5-Dec. 2 & |  |
| Dec. 21-Jan. 26 |  |
Coots | Same as for Ducks | 15 | 45
Mergansers | Same as for Ducks | 5 | 15
Dark Geese:
Northern Front Range Unit | Oct. 5-Oct. 23 & | 5 | 15
| Nov. 23-Feb. 16 | 5 | 15
South Park/San Luis Valley Unit | Same as N. Front Range Unit | 5 | 15
North Park Unit | Same as N. Front Range Unit | 5 | 15
Rest of State in Central Flyway | Nov. 23-Feb. 16 | 5 | 15
Light Geese:
Northern Front Range Unit | Nov. 2-Feb. 16 | 50 |
South Park/San Luis Valley Unit | Same as N. Front Range Unit | 50 |
North Park Unit | Same as N. Front Range Unit | 50 |
Rest of State in Central Flyway | Same as N. Front Range Unit | 50 |
Kansas
Ducks |  | 6 | 18
High Plains | Oct. 5-Dec. 2 & |  |
| Dec. 21-Jan. 26 |  |
Low Plains:
Early Zone | Oct. 5-Dec. 1 & |  |
| Dec. 21-Jan. 5 |  |
Late Zone | Oct. 26-Dec. 29 & |  |
| Jan. 18-Jan. 26 |  |
Southeast Zone | Nov. 2-Nov. 3 & |  |
| Nov. 16-Jan. 26 |  |
Mergansers | Same as for Ducks | 5 | 15
Coots | Same as for Ducks | 15 | 45
Canada Geese and Brant | Oct. 26-Nov. 3 & | 6 | 18
| Nov. 6-Feb. 9 | 6 | 18
White-fronted Geese | Oct. 26-Dec. 29 & | 2 | 6
| Feb. 1-Feb. 9 | 2 | 6
Light Geese | Oct. 26-Nov. 3 & | 50 |
| Nov. 6-Feb. 9 | 50 |
Montana
Ducks and Mergansers |  | 6 | 18
Zone 1 | Sept. 28-Jan. 2 |  |
Zone 2 | Same as Zone 1 |  |
Coots | Same as for Ducks | 15 | 45
Dark Geese | Sept. 28-Jan. 5 & | 5 | 15
| Jan. 10-Jan. 14 | 5 | 15
Light Geese | Sept. 28-Jan. 5 & | 20 | 60
| Jan. 10-Jan. 14 | 20 | 60
Nebraska
Ducks (1) |  | 6 | 18
Zone 1 | Oct. 12-Dec. 24 |  |
Zone 2:
Low Plains | Oct. 5-Dec. 17 |  |
High Plains | Oct. 5-Dec. 17 & |  |
| Jan. 5-Jan. 26 |  |
Zone 3:
Low Plains | Oct. 23-Jan. 4 |  |
High Plains | Oct. 23-Jan. 4 & |  |
| Jan. 5-Jan. 26 |  |
Zone 4 | Oct. 5-Dec. 17 |  |
Mergansers | Same as for Ducks | 5 | 15
Coots | Same as for Ducks | 15 | 45
Canada Geese:
Niobrara Unit | Oct. 28-Feb. 9 | 5 | 15
East Unit | Oct. 28-Feb. 9 | 5 | 15
North Central Unit | Oct. 5-Jan. 17 | 5 | 15
Platte River Unit | Oct. 28-Feb. 9 | 5 | 15
Panhandle Unit | Oct. 28-Feb. 9 | 5 | 15
White-fronted Geese | Oct. 3-Dec. 13 & | 2 | 6
| Feb. 1-Feb. 2 | 1 | 3
Light Geese | Oct. 5-Jan. 1 & | 20 |
| Jan. 25-Feb. 9 | 20 |
New Mexico
Ducks and Mergansers (2) |  | 6 | 18
North Zone | Oct. 5-Jan. 8 |  |
South Zone | Oct. 23-Jan. 26 |  |
Coots | Same as for Ducks | 15 | 45
Dark Geese (3)
Middle Rio Grande Valley Unit (3) | Dec. 28-Jan. 19 | 2 | 2
Rest of State | Oct. 12-Jan. 26 | 5 | 15
Light Geese | Oct. 12-Jan. 26 | 50 |
North Dakota
Ducks: |  | 6 | 18
High Plains | Sept. 21-Dec. 1 & |  |
| Dec. 7-Dec. 29 |  |
Remainder of State | Sept. 21-Dec. 1 |  |
Mergansers | Same as for Ducks | 5 | 15
Coots | Same as for Ducks | 15 | 45
Canada Geese (4)
Missouri River Zone | Sept. 21-Dec. 27 | 5 | 15
Rest of State | Sept. 21-Dec. 21 | 8 | 24
White-fronted Geese | Sept. 21-Dec. 1 | 2 | 6
Light Geese | Sept. 21-Dec. 29 | 50 |
Oklahoma
Ducks |  | 6 | 18
High Plains | Oct. 12-Jan. 8 |  |
Low Plains:
Zone 1 | Oct. 26-Dec. 1 & |  |
| Dec. 14-Jan. 19 |  |
Zone 2 | Nov. 2-Dec. 1 & |  |
| Dec. 14-Jan. 26 |  |
Mergansers | Same as for Ducks | 5 | 15
Coots | Same as for Ducks | 15 | 45
Canada Geese | Nov. 2-Dec. 1 & | 8 | 24
| Dec. 14-Feb. 16 | 8 | 24
White-fronted Geese | Nov. 2-Dec. 1 & | 1 | 3
| Dec. 14-Feb. 9 | 1 | 3
Light Geese | Nov. 2-Dec. 1 & | 50 |
| Dec. 14-Feb. 16 | 50 |
South Dakota
Ducks: |  | 6 | 18
High Plains | Oct. 12-Dec. 24 & |  |
| Dec. 25-Jan. 16 |  |
Low Plains:
North Zone | Sept. 28-Dec. 10 |  |
Middle Zone | Same as for North Zone |  |
South Zone | Oct. 12-Dec. 24 |  |
Mergansers | Same as for Ducks | 5 | 15
Coots | Same as for Ducks | 15 | 45
Canada Geese:
Unit 1 | Oct. 1-Dec. 16 | 8 | 24
Unit 2 | Nov. 2-Feb. 14 | 4 | 12
Unit 3 | Oct. 19-Dec. 22 & | 4 | 12
| Jan. 11-Jan. 19 | 4 | 12
White-fronted Geese | Sept. 28-Dec. 8 | 2 | 6
Light Geese | Sept. 28-Dec. 22 | 20 |
Texas
Ducks (5) |  | 6 | 18
High Plains | Oct. 26-Oct. 27 & |  |
| Nov. 1-Jan. 26 |  |
Low Plains:
North Zone | Nov. 2-Dec. 8 & |  |
| Dec. 21-Jan. 26 |  |
South Zone | Nov. 2-Dec. 1 & |  |
| Dec. 14-Jan. 26 |  |
Mergansers | Same as for Ducks | 5 | 15
Coots | Same as for Ducks | 15 | 45
Canada Geese and Brant:
East Tier:
South Zone | Nov. 2-Jan. 26 | 3 | 9
North Zone | Same as South Zone | 3 | 9
West Tier (6) | Nov. 2-Feb. 2 | 5 | 15
White-fronted Geese:
East Tier:
South Zone | Nov. 2-Jan. 12 | 2 | 6
North Zone | Same as South Zone | 2 | 6
West Tier (6) | Same as for Canada geese | 1 | 3
Light Geese:
East Tier:
South Zone | Nov. 2-Jan. 26 | 20 |
North Zone | Same as South Zone | 20 |
West Tier | Same as for Canada geese | 20 |
Wyoming:
Ducks (7): |  | 6 | 18
Zone C1 | Oct. 5-Oct. 22 & |  |
| Nov. 2-Jan. 19 |  |
Zone C2 | Sept. 21-Dec. 1 & |  |
| Dec. 14-Jan. 7 |  |
Zone C3 | Same as Zone C2 |  |
Mergansers | Same as for Ducks | 5 | 15
Coots | Same as for Ducks | 15 | 45
Dark Geese
Zone G1A (8) | Oct. 5-Oct. 22 & | 2 | 6
| Nov. 22-Feb. 16 | 4 | 12
Zone G1 | Oct. 5-Oct. 22 & | 5 | 15
| Nov. 2-Dec. 1 & | 5 | 15
| Dec. 7-Feb. 1 | 5 | 15
Zone G2 | Sept. 21-Dec. 1 & | 5 | 15
| Dec. 14-Jan. 15 | 5 | 15
Zone G3 | Same as Zone G2 | 5 | 15
Light Geese | Oct. 5-Dec. 30 & | 10 | 30
| Jan. 30-Feb. 16 | 10 | 30
(1) In Nebraska, the daily bag limit for scaup is 2.
(2) In New Mexico, Mexican-like ducks are included in the aggregate with mallards.
(3) In New Mexico, the season for dark geese is closed in Bernalillo, Sandoval, Sierra, and Valencia Counties. In the Middle Rio Grande Valley Unit, a limited season is established. See State regulations for additional information.
(4) In North Dakota, see State regulations for additional shooting hour restrictions.
(5) In Texas, the daily bag limit is 6 ducks, which may include no more than 5 mallards (only 2 of which may be hens), 2 redheads, 3 wood ducks, 3 scaup, 2 canvasbacks, 2 pintails, and 1 dusky duck (mottled duck, Mexican-like duck, black duck and their hybrids). The season for dusky ducks is closed the first 5 days of the season in all zones. The possession limit is three times the daily bag limit.
(6) In Texas, in the West Tier the daily bag limit for dark geese is 5 in the aggregate and may include no more than 1 white-fronted goose.
(7) In Wyoming, the daily bag limit may include no more than 1 hen mallard.
(8) See State regulations for additional restrictions.

Pacific Flyway

Flyway-Wide Restrictions

Duck and Merganser Limits: The daily bag limit of 7 ducks (including mergansers) may include no more than 2 female mallards, 2 pintails, 2 redheads, 3 scaup, and 2 canvasbacks. The possession limit is three times the daily bag limit.

Coot and Common Moorhen Limits: Daily bag and possession limits are in the aggregate for the two species.

| Season dates | Limits: Bag | Limits: Possession
Arizona
Ducks (1) |  | 7 | 21
North Zone:
Scaup | Oct. 19-Jan. 12 | 3 | 9
Other Ducks | Oct. 4-Jan. 12 | 7 | 21
South Zone:
Scaup | Nov. 2-Jan. 26 | 3 | 9
Other Ducks | Oct. 18-Jan. 26 | 7 | 21
Coots and moorhens | Same as for Other Ducks | 25 | 75
Canada Geese and Brant:
North Zone | Oct. 4-Jan. 12 | 3 | 9
South Zone | Oct. 18-Jan. 26 | 3 | 9
White-fronted Geese | Same as for Canada geese | 3 | 9
Light Geese | Same as for Canada geese | 10 | 30
California
Ducks: |  | 7 | 21
Northeastern Zone:
Scaup | Oct. 5-Dec. 29 | 3 | 9
Other Ducks | Oct. 5-Jan. 17 | 7 | 21
Colorado River Zone:
Scaup | Nov. 2-Jan. 26 | 3 | 9
Other Ducks | Oct. 18-Jan. 26 | 7 | 21
Southern Zone:
Scaup | Nov. 2-Jan. 26 | 3 | 9
Other Ducks | Oct. 19-Jan. 26 | 7 | 21
Southern San Joaquin Valley Zone
Scaup | Nov. 2-Jan. 26 | 3 | 9
Other Ducks | Oct. 5-Oct. 20 & | 7 | 21
| Nov. 2-Jan. 26 |  |
Balance-of-State Zone:
Scaup | Nov. 2-Jan. 26 | 3 | 9
Other Ducks | Oct. 19-Jan. 26 | 7 | 21
Coots and moorhens | Same as for Other Ducks | 25 | 25
Canada Geese (2)(3):
Northeastern Zone (4) | Oct. 5-Jan. 12 | 6 | 18
Colorado River Zone | Oct. 18-Jan. 26 | 4 | 12
Southern Zone (5) | Oct. 19-Jan. 26 | 3 | 9
Balance-of-State Zone | Sept. 28-Oct. 2 & | 6 | 18
| Oct. 19-Jan. 26 | 6 | 18
Del Norte & Humboldt Counties | Oct. 31-Jan. 26 | 6 | 18
| Feb. 22-Mar. 10 | 6 | 18
White-fronted Geese:
Northeastern Zone | Oct. 5-Jan. 12 & | 6 | 18
| Mar. 6-Mar. 10 | 6 | 18
Colorado River Zone | Oct. 18-Jan. 26 | 6 | 18
Southern Zone (5) | Oct. 19-Jan. 26 | 3 | 9
Balance-of-State Zone:
Sacramento Valley | Oct. 19-Dec. 21 | 3 | 9
Rest of Zone | Oct. 19-Jan. 26 | 6 | 18
| Feb. 15-Feb. 19 | 6 | 18
Del Norte & Humboldt Counties | Oct. 19-Jan. 26 | 6 | 18
Light Geese:
Northeastern Zone | Nov. 1-Jan. 12 & | 10 | 30
| Feb. 7-Mar.10 | 10 | 30
Colorado River Zone | Oct. 18-Jan. 26 | 10 | 30
Southern Zone:
Imperial Valley | Nov. 2-Jan. 26 & | 10 | 30
| Feb. 8-Feb. 23 | 10 | 30
Rest of Zone | Oct. 19-Jan. 26 | 10 | 30
Balance-of-State Zone | Oct. 19-Jan. 26 & | 10 | 30
| Feb. 15-Feb. 19 | 10 | 30
Del Norte & Humboldt Counties | Oct. 19-Jan. 26 | 10 | 30
Brant:
North Zone | Nov. 7-Dec. 6 | 2 | 6
South Zone | Nov. 9-Dec. 8 | 2 | 6
Colorado
Ducks |  | 7 | 21
Scaup | Sept. 21-Oct. 9 & | 3 | 9
| Nov. 2-Jan. 5 | 3 | 9
Other Ducks | Sept. 21-Oct. 9 & | 7 | 21
| Nov. 2-Jan. 26 | 7 | 21
Coots and moorhens | Same as for Other Ducks | 25 | 75
Canada Geese and Brant | Sept. 21-Oct. 9 & | 4 | 12
| Nov. 2-Jan. 26 | 4 | 12
White-fronted Geese | Same as for Canada Geese | 4 | 12
Light Geese | Same as for Canada Geese | 10 | 30
Idaho
Ducks |  | 7 | 21
Zone 1:
Scaup | Oct. 26-Jan. 17 | 3 | 9
Other Ducks | Oct. 5-Jan. 17 | 7 | 21
Zone 2:
Scaup | Nov. 2-Jan. 24 | 3 | 9
Other Ducks | Oct. 12-Jan. 24 | 7 | 21
Zone 3:
Scaup | Nov. 2-Jan. 24 | 3 | 9
Other Ducks | Oct. 12-Jan. 24 | 7 | 21
Coots | Same as for Other Ducks | 25 | 75
Canada Geese and Brant:
Zone 1 | Oct. 5-Jan. 17 | 4 | 12
Zone 2 | Oct. 12-Jan. 24 | 4 | 12
Zone 3 | Same as Zone 2 | 4 | 12
White-fronted Geese:
Zone 1 | Oct. 5-Jan. 17 | 6 | 18
Zone 2 | Oct. 12-Jan. 24 | 6 | 18
Zone 3 | Nov. 11-Feb. 23 | 6 | 18
Light Geese:
Zone 1 (6) | Oct. 5-Jan. 17 | 20 | 60
Zone 2 | Oct. 29-Jan. 17 & | 20 | 60
| Feb. 15-Mar. 10 | 20 | 60
Zone 3 | Nov. 26-Mar. 10 | 20 | 60
Zone 4 | Oct. 12-Jan. 24 | 20 | 60
Montana
Ducks |  | 7 | 21
Scaup | Sept. 28-Dec. 22 | 3 | 9
Other Ducks | Sept. 28-Jan. 5 & | 7 | 21
| Jan. 10-Jan. 14 | 7 | 21
Coots | Same as for Other Ducks | 25 | 25
Dark Geese (7) | Sept. 28-Jan. 5 & | 4 | 12
| Jan. 10-Jan. 14 | 4 | 12
Light Geese | Same as for Dark Geese | 20 | 60
Nevada
Ducks |  | 7 | 21
Northeast Zone:
Scaup | Sept. 21-Oct. 30 & | 3 | 9
| Nov. 2-Dec. 17 | 3 | 9
Other Ducks | Sept. 21-Oct. 30 & | 7 | 21
| Nov. 2-Jan. 5 | 7 | 21
Northwest Zone: | Oct. 13-Oct. 31 & |  |
Scaup | Nov. 2-Jan. 26 | 3 | 9
Other Ducks | Oct. 12-Oct. 30 & | 7 | 21
| Nov. 2-Jan. 26 | 7 | 21
South Zone (8): | Same as Northwest Zone |  |
Coots and moorhens | Same as for Other Ducks | 25 | 75
Canada Geese and Brant:
Northeast Zone | Same as for Other Ducks | 3 | 9
Northwest Zone | Same as for Other Ducks | 3 | 9
South Zone (8) | Same as for Other Ducks | 3 | 9
Whitre-fronted Geese | Same as for Canada Geese | 6 | 18
Light Geese (9):
Northeast Zone | Nov. 2-Jan. 5 & | 20 | 60
| Feb. 22-Mar. 10 | 20 | 60
Northwest Zone | Nov. 2-Jan. 26 & | 20 | 60
| Feb. 22-Mar. 10 | 20 | 60
South Zone (8) | Nov. 2-Jan. 26 | 20 | 60
New Mexico
Ducks |  | 7 | 21
Scaup | Oct. 12-Jan. 5 | 3 | 9
Other Ducks | Oct. 12-Jan. 24 | 7 | 21
Coots, Moorhens and Gallinules | Same as for Other Ducks | 25 | 75
Canada Geese and Brant:
North Zone | Sept. 21-Oct. 6 & | 3 | 9
| Oct. 26-Jan. 24 | 3 | 9
South Zone | Oct. 12-Jan. 26 | 3 | 9
White-fronted Geese:
North Zone | Same as for Canada Geese | 6 | 18
South Zone | Same as for Canada Geese | 6 | 18
Light Geese:
North Zone | Same as for Canada Geese | 20 | 60
South Zone | Same as for Canada Geese | 20 | 60
Oregon
Ducks: |  | 7 | 21
Zone 1:
Columbia Basin Unit:
Scaup | Nov. 2-Jan. 26 | 3 | 9
Other Ducks | Oct. 12-Oct. 20 & | 7 | 21
| Oct. 23-Jan. 26 | 7 | 21
Rest of Zone 1 | Same as Columbia Basin Unit |  |
Zone 2:
Scaup | Oct. 5-Dec. 1 & | 3 | 9
| Dec. 4-Dec. 31 | 3 | 9
Other Ducks | Oct. 5-Dec. 1 & | 7 | 21
| Dec. 4-Jan. 19 | 7 | 21
Coots | Same as for Other Ducks | 25 | 75
Canada Geese (3):
Northwest General Goose Zone (10) | Nov. 2-Nov. 10 & | 4 | 12
| Nov. 23-Jan. 12 & | 4 | 12
| Feb. 1-Mar. 10 | 4 | 12
Northwest Special Permit Zone (10) (11)(12) | Nov. 2-Nov. 10 & | 4 | 12
| Nov. 23-Jan. 12 & | 4 | 12
| Feb. 1-Mar. 10 | 4 | 12
Southwest General Zone | Oct. 12-Dec. 1 & | 4 | 12
| Dec. 9-Jan. 26 | 4 | 12
South Coast Zone | Sept. 28-Dec. 1 & | 4 | 12
| Dec. 21-Jan. 12 & | 4 | 12
| Feb. 22-Mar. 10 | 6 | 18
Harney and Lake County Zone | Oct. 5-Dec. 1 & | 4 | 12
| Dec. 16-Jan. 26 | 4 | 12
Malheur County Zone | Oct. 5-Dec. 1 & | 4 | 12
| Dec. 16-Jan. 26 | 4 | 12
Klamath County Zone | Oct. 5-Dec. 1 & | 4 | 12
| Dec. 16-Jan. 26 | 4 | 12
Eastern Zone | Oct. 12-Oct. 20 & | 4 | 12
| Oct. 28-Jan. 26 | 4 | 12
Tillamook County (10)(11)(12) | Nov. 2-Nov. 10 & | 4 | 12
| Nov. 23-Jan. 12 & | 4 | 12
| Feb. 1-Mar. 10 | 4 | 12
White-fronted Geese:
Northwest General Goose Zone | Same as for Canada Geese | 6 | 18
Northwest Special Permit Zone (9) | Same as for Canada Geese | 6 | 18
Southwest General Zone | Same as for Canada Geese | 6 | 18
South Coast Zone | Same as for Canada Geese | 6 | 18
Harney and Lake County Zone:
Lake County | Same as for Canada Geese | 1 | 3
Rest of Zone | Same as for Canada Geese | 6 | 18
Malheur County Zone | Same as for Canada Geese | 6 | 18
Klamath County Zone | Oct. 5-Dec. 1 & | 6 | 18
| Jan. 23-Mar. 10 | 6 | 18
Eastern Zone | Same as for Canada Geese | 6 | 18
Tillamook County (9) | Same as for Canada Geese | 6 | 18
Light Geese:
Northwest General Goose Zone | Same as for Canada Geese | 6 | 18
Northwest Special Permit Zone (9) | Same as for Canada Geese | 4 | 12
Southwest General Zone | Same as for Canada Geese | 6 | 18
South Coast Zone | Same as for Canada Geese | 6 | 18
Harney and Lake County Zone | Same as for Canada Geese | 6 | 18
Malheur County Zone | Same as for Canada Geese | 20 | 60
Klamath County Zone | Same as for White-fronted Geese | 6 | 18
Eastern Zone | Same as for Canada Geese | 6 | 18
Tillamook County (9) | Same as for Canada Geese | 6 | 18
Brant | Nov. 16-Dec. 1 | 2 | 6
Utah (13)
Ducks |  | 7 | 21
Zone 1:
Scaup | Oct. 5-Dec. 29 | 3 | 9
Other Ducks | Oct. 5-Jan. 18 | 7 | 21
Zone 2:
Scaup | Same as Zone 1 | 3 | 9
Other Ducks | Same as Zone 1 | 7 | 21
Coots | Same as for Other Ducks | 25 | 75
Canada Geese and Brant:
North Zone | Oct. 5-Jan. 18 | 3 | 9
Wasatch Front Zone | Oct. 5-Oct. 17 & | 3 | 9
| Nov. 2-Feb. 2 | 3 | 9
Washington County Zone | Oct. 5-Oct. 17 & | 3 | 9
| Nov. 2-Feb. 2 | 3 | 9
Rest of State Zone | Oct. 5-Oct. 17 & | 3 | 9
| Oct. 26-Jan. 26 | 3 | 9
White-fronted Geese:
North Zone | Same as for Canada Geese | 6 | 18
Wasatch Front Zone | Same as for Canada Geese | 6 | 18
Washington County Zone | Same as for Canada Geese | 6 | 18
Rest of State Zone | Same as for Canada Geese | 6 | 18
Light Geese:
North Zone | Oct. 25-Jan. 18 & | 20 | 60
| Feb. 18-Mar. 10 | 20 | 60
Wasatch Front Zone | Same as for North Zone | 20 | 60
Washington County Zone | Same as for North Zone | 20 | 60
Rest of State Zone | Oct. 22-Jan. 26 & | 20 | 60
| Mar. 1-Mar. 10 | 20 | 60
Washington
Ducks: |  | 7 | 21
East Zone:
Scaup | Nov. 2-Jan. 26 | 3 | 9
Other Ducks | Oct. 12-Oct 16 & | 7 | 21
| Oct. 19-Jan. 26 | 7 | 21
West Zone (14) | Same as East Zone |  |
Coots | Same as for Other Ducks | 25 | 75
Canada Geese:
Management Area 1 (15): | Oct 12-Oct. 24 & | 4 | 12
| Nov. 2-Jan. 26 | 4 | 12
Management Area 2A (16) (17) (18): | Nov. 9-Nov. 27 & | 4 | 12
| Nov. 30-Dec. 1 & | 4 | 12
| Dec. 11-Jan. 26 & | 4 | 12
| Feb. 2-Mar. 6 | 4 | 12
Management Area 2B (16) (17) (18): | Oct. 12-Oct. 23 & | 4 | 12
| Nov. 2-Jan. 18 | 4 | 12
Management Areas 3 (15) | Oct. 12-Oct. 24 & | 4 | 12
| Nov. 2-Jan. 18 | 4 | 12
Management Area 4 (15) | Oct. 12-Oct. 13 & | 4 | 12
| Oct. 16 & | 4 | 12
| Oct. 19-Jan. 26 | 4 | 12
Management Area 5 (15) | Oct. 12-Oct. 14 & | 4 | 12
| Oct. 19-Jan. 26 | 4 | 12
White-fronted Geese:
Management Area 1 (15) | Same as for Canada Geese | 4 | 12
Management Area 2A (16) | Same as for Canada Geese | 4 | 12
Management Area 2B (16) | Same as for Canada Geese | 4 | 12
Management Areas 3 (15) | Same as for Canada Geese | 4 | 12
Management Area 4 (15) | Same as for Canada Geese | 4 | 12
Management Area 5 (15) | Same as for Canada Geese | 4 | 12
Light Geese:
Management Area 1 (15) | Same as for Canada Geese | 4 | 12
Management Area 2A (16) | Same as for Canada Geese | 4 | 12
Management Area 2B (16) | Same as for Canada Geese | 4 | 12
Management Areas 3 (15) | Same as for Canada Geese | 4 | 12
Management Area 4 (15) | Same as for Canada Geese | 4 | 12
Management Area 5 (15) | Same as for Canada Geese | 4 | 12
Brant (19):
Skagit County | Jan. 11-Jan. 26 | 2 | 6
Pacific County | Jan. 4-Jan. 19 | 2 | 6
Wyoming
Ducks |  | 7 | 21
Snake River Zone:
Scaup | Sept. 21-Dec. 15 | 3 | 9
Other Ducks | Sept. 21-Jan. 3 | 7 | 21
Balance of State Zone: |  |
Scaup | Sept. 21-Dec. 15 | 3 | 9
Other Ducks | Sept. 21-Jan. 3 | 7 | 21
Coots | Same as for Other Ducks | 15 | 45
Canada Geese and Brant | Sept. 21-Dec. 26 | 3 | 9
White-fronted Geese | Same as for Canada Geese | 3 | 9
Light Geese | Closed |  |
(1) In Arizona, the daily limit may include no more than either 2 hen mallards or 2 Mexican-like ducks, or 1 of each; and not more than 4 hen mallards and Mexican-like ducks, in the aggregate, may be in possession.
(2) In California and Oregon, small Canada geese are Cackling and Aleutian Canada geese.
(3) In California, large Canada geese are Western and Lesser Canada geese.
(4) In California, in the Northeastern Zone, the daily bag limit may include no more than 2 large Canada geese.
(5) In California, in the Southern Zone, the daily bag limit for Canada geese and white-fronted geese is an aggregate bag limit.
(6) In Idaho, the season on light geese is closed in Fremont and Teton Counties.
(7) In Montana, check State regulations for special seasons/exceptions in Freezeout Lake WMA; Canyon Ferry; Flathead; Deer Lodge County; and Missoula County.
(8) In Nevada, in the South Zone, the open season for all ducks, coots, moorhens, brant, and geese in the Clarke County portion of the South Zone is only November 2 to January 26.
(9) In Nevada, there is no open season on light geese in Ruby Valley within Elko and White Pine Counties. In addition, the season is closed in Kirch WMA, Mason Valley WMA, and Scripps WMA/Washoe State Park from February 10 to February 28.
(10) In Oregon, in the Northwest General Zone Zone, the Northwest Special Permit Zone, and the Tillamook County Zone, the daily bag limit for Canada geese may not include more than 3 Cackling or Aleutian Canada geese.
(11) In Oregon, the Northwest Special Permit Zone is closed to all goose hunting, except for designated areas. See State regulations for specific boundary descriptions, times, days, and other conditions of the special permit season.
(12) In Oregon, in the Northwest Special Permit Zone and the Tillamook County Zone, the bag limit for Dusky Canada geese is 1 per season.
(13) In Utah, the shooting hours are 7:30 a.m. to sunset on October 6 in Cache, Salt Lake, Davis, Weber, and Box Elder Counties.
(14) In Washington, the daily bag limit in the West Zone may include no more than 2 scoters, 2 long-tailed ducks, and 2 goldeneyes, with the possession limit three times the daily bag limit. The daily bag and possession limit, and the season limit, for harlequins is 1.
(15) In Washington, in State Goose Area 4, hunting is allowed only on Saturdays, Sundays, Wednesdays, and certain holidays. In State Goose Areas 1, 3, and 5, hunting is allowed everyday. See State regulations for details, including shooting hours.
(16) In Washington, see State regulations for specific dates and conditions of permit hunts and closures for Canada geese.
(17) In Washington, in Management Area 2A, the daily bag limit for Canada geese may not include more than 3 Cackling Canada geese. In Management Area 2B, the daily bag limit for Canada geese may not include more than 3 Cackling and 1 Aleutian Canada geese.
(18) In Washington, in Management Area 2A and 2B, the bag limit for Dusky Canada geese is 1 per season.
(19) In Washington, brant may be hunted in Skagit and Pacific Counties only; see State regulations for specific dates.
(f) Youth Waterfowl Hunting Days.
The following seasons are open only to youth hunters. Youth hunters must be accompanied into the field by an adult at least 18 years of age. This adult cannot duck hunt but may participate in other open seasons.
Definition
Youth Hunters: Includes youths 15 years of age or younger.
Note: The following seasons are in addition to the seasons published previously in the August 28, 2013, Federal Register (78 FR 53200). Bag and possession limits will conform to those set for the regular season.

|  | Season Dates
ATLANTIC FLYWAY
Connecticut | Ducks, geese, mergansers, and coots | Oct. 5 & Nov. 2.
* * * * * * *
Florida | Ducks, mergansers, coots, moorhens, and geese | Feb. 1 & 2.
* * * * * * *
Maryland (1)(8) | Ducks, coots, snow geese, Canada geese, sea ducks, and brant | Nov. 2 & Feb. 8.
Massachusetts | Ducks, mergansers, coots, and geese | Oct. 5 & Oct. 12.
New Jersey | Ducks, geese, mergansers, coots, moorhens, and gallinules
North Zone |  | Oct. 5 & Nov. 2.
South Zone |  | Oct. 12 & Nov. 9.
Coastal Zone |  | Oct. 26 & Nov. 16.
* * * * * * *
North Carolina | Ducks, mergansers, Canada geese (9), tundra swans (10), and coots | Feb. 1 & 8.
* * * * * * *
South Carolina | Ducks, geese, mergansers, and coots | Nov. 16 & Feb. 1.
* * * * * * *
Virginia | Ducks, mergansers, coots, moorhens, tundra swans (10), and Canada geese (11) | Oct. 26 & Feb. 1.
* * * * * * *
MISSISSIPPI FLYWAY |
* * * * * * *
Arkansas | Ducks, geese, mergansers, coots, moorhens, and gallinules | Feb. 1 & 2.
Illinois | Ducks, geese, mergansers, and coots
North Zone |  | Oct. 12 & 13.
Central Zone |  | Oct. 19 & 20.
South Central Zone |  | Nov. 2 & 3.
South Zone |  | Nov. 16 & 17
Indiana | Ducks, mergansers, coots, moorhens, gallinules, and geese:
North Zone |  | Oct. 12 & 13.
Central Zone |  | Oct. 19 & 20.
South Zone |  | Oct. 26 & 27.
Iowa | Ducks, geese, mergansers, coots
North Zone |  | Oct. 5 & 6.
Missouri River Zone |  | Oct. 19 & 20.
South Zone |  | Oct. 12 & 13.
Kentucky | Ducks, geese, mergansers, coots, moorhens, and gallinules:
West Zone |  | Feb. 1 & 2.
East Zone |  | Nov. 2 & 3.
Louisiana | Ducks, mergansers, coots, moorhens, gallinules, and geese:
West Zone |  | Nov. 9 & Jan. 25.
East Zone |  | Nov. 16 & Feb. 1.
Coastal Zone |  | Nov. 2 & 3.
* * * * * * *
Mississippi | Ducks, mergansers, coots, moorhens, gallinules, and geese | Nov. 16 & Feb. 1.
Missouri | Ducks, coots, mergansers, moorhens, gallinules, and geese:
North Zone |  | Oct. 19 & 20.
Middle Zone |  | Oct. 26 & 27.
South Zone |  | Nov. 23 & 24.
Ohio | Ducks, mergansers, coots, moorhens, gallinules, and geese:
Lake Erie Marsh |  | Oct. 5 & 6.
North Zone |  | Oct. 5 & 6.
South Zone |  | Oct. 5 & 6.
Tennessee | Ducks, mergansers, coots, moorhens, gallinules, and geese:
Reelfoot Zone |  | Feb. 1 & 8.
Remainder of State |  | Feb. 1 & 8.
* * * * * * *
CENTRAL FLYWAY
* * * * * * *
Kansas (4) | Ducks, dark geese, mergansers, and coots:
High Plains |  | Sept. 28 & 29.
Low Plains:
Early Zone |  | Sept. 28 & 29.
Late Zone |  | Oct. 19 & 20.
Southeast Zone |  | Oct. 26 & 27.
* * * * * * *
Nebraska | Ducks, geese, mergansers, and coots
Zone 1 |  | Oct. 5 & 6.
Zone 2 |  | Sept. 28 & 29.
Zone 3 |  | Oct. 19 & 20.
Zone 4 |  | Sept. 28 & 29.
Oklahoma | Ducks, mergansers, coots, and geese:
High Plains |  | Oct. 5 & 6.
Low Plains:
Zone 1 |  | Oct. 12 & 13.
Zone 2 |  | Oct. 19 & 20.
* * * * * * *
Texas | Ducks, geese, mergansers, moorhens, gallinules, and coots:
High Plains |  | Oct. 19 & 20.
Low Plains:
North Zone |  | Oct. 26 & 27.
South Zone |  | Oct. 26 & 27.
* * * * * * *
PACIFIC FLYWAY
Arizona | Ducks, geese, brant, mergansers, coots, moorhens, and gallinules
North Zone |  | Sept. 28 & 29.
South Zone |  | Feb. 1 & 2.
California | Ducks, geese, brant, mergansers, coots, moorhens, and gallinules
Northeastern Zone |  | Sept. 21 & 22.
Colorado River Zone |  | Feb. 1 & 2.
Southern Zone |  | Feb. 1 & 2.
Southern San Joaquin Valley |  | Feb. 1 & 2.
Balance-of-State Zone |  | Feb. 1 & 2.
* * * * * * *
Nevada | Ducks, geese, mergansers, coots, moorhens, and gallinules
Northeast Zone |  | Sept. 14 & 15.
Northwest Zone |  | Sept. 28 & Feb. 8.
* * * * * * *
South Zone |  | Feb. 8 & 9.
* * * * * * *
(1) In Maryland, youth hunter(s) must be accompanied by an adult at least 21 years old and who possesses a current Maryland hunting license or is exempt from the hunting license requirement. The adult accompanying the youth hunter(s) may not possess a hunting weapon and may not participate in other seasons that are open on the youth days.
* * * * * * *
(4) In Kansas, the adult accompanying the youth must possess any licenses and/or stamps required by law for that individual to hunt waterfowl.
* * * * * * *
(8) In Maryland, the bag limit for Canada geese is 2 in the AP Zone and 5 in the RP Zone.
(9) In North Carolina, the daily bag limit in the Northeast Hunt Zone may not include dark geese except by permit.
(10) In North Carolina and Virginia, the daily bag limit may not include tundra swans except by permit.
(11) In Virginia, the daily bag limit for Canada geese is 2.

4. Section 20.106 is amended by:

a. Revising the introductory paragraphs;

b. Adding entries for the following States in alphabetical order to the table;

c. Revising footnote (1) following the table; and

d. Adding footnotes (6) and (7) following the table.

The revisions and additions read as follows:

§ 20.106 Seasons, limits, and shooting hours for sandhill cranes.

Subject to the applicable provisions of the preceding sections of this part, areas open to hunting, respective open seasons (dates inclusive), shooting and hawking hours, and daily bag and possession limits on the species designated in this section are as follows:

Shooting and hawking hours are one-half hour before sunrise until sunset, except as otherwise restricted by State regulations. Area descriptions were published in the August 23, 2013, Federal Register (78 FR 52658).

Federally authorized, State-issued permits are issued to individuals, and only the individual whose name and address appears on the permit at the time of issuance is authorized to take sandhill cranes at the level allowed by the permit, in accordance with provisions of both Federal and State regulations governing the hunting season. The permit must be carried by the permittee when exercising its provisions and must be presented to any law enforcement officer upon request. The permit is not transferable or assignable to another individual, and may not be sold, bartered, traded, or otherwise provided to another person. If the permit is altered or defaced in any way, the permit becomes invalid.

CHECK STATE REGULATIONS FOR ADDITIONAL RESTRICTIONS AND DELINEATIONS OF GEOGRAPHICAL AREAS. SPECIAL RESTRICTIONS MAY APPLY ON FEDERAL AND STATE PUBLIC HUNTING AREAS AND FEDERAL INDIAN RESERVATIONS.

Note: The following seasons are in addition to the seasons published previously in the August 28, 2013, Federal Register (78 FR 53200).

| Season dates | Limits: Bag | Limits: Possession
MISSISSIPPI FLYWAY
Kentucky (1)(6) | Dec. 14-Jan. 12 | 2 | 2
Tennessee (7) | Nov. 28-Jan. 1 | 3 | 3
* * * * * * *
CENTRAL FLYWAY
* * * * * * *
Oklahoma (1) | Oct. 19-Jan. 19 | 3 | 9
* * * * * * *
Texas (1):
Zone A | Nov. 2-Feb. 2 | 3 | 9
Zone B | Nov. 22-Feb. 2 | 3 | 9
Zone C | Dec. 21-Jan. 26 | 2 | 6
* * * * * * *
(1) Each person participating in the regular sandhill crane seasons must have a valid sandhill crane hunting permit and/or a State-issued Harvest Information Survey Program (HIP) certification for game bird hunting in their possession while hunting.
* * * * * *
(6) In Kentucky, the season limit is 2 cranes. If the harvest objective of 400 cranes is obtained before the season ending date, the season will close.
(7) In Tennessee, the shooting hours are from sunrise to 3 p.m.

5. Section 20.107 is revised to read as follows:

§ 20.107 Seasons, limits, and shooting hours for swans.

Subject to the applicable provisions of the preceding sections of this part, areas open to hunting, respective open seasons (dates inclusive), shooting and hawking hours, and daily bag and possession limits on the species designated in this section are as follows:

Shooting hours are one-half hour before sunrise until sunset, except as otherwise restricted by State regulations. Hunting is by State permit only.

Federally authorized, State-issued permits are issued to individuals, and only the individual whose name and address appears on the permit at the time of issuance is authorized to take swans at the level allowed by the permit, in accordance with provisions of both Federal and State regulations governing the hunting season. The permit must be carried by the permittee when exercising its provisions and must be presented to any law enforcement officer upon request. The permit is not transferable or assignable to another individual, and may not be sold, bartered, traded, or otherwise provided to another person. If the permit is altered or defaced in any way, the permit becomes invalid.

CHECK STATE REGULATIONS FOR ADDITIONAL RESTRICTIONS AND DELINEATIONS OF GEOGRAPHICAL AREAS. SPECIAL RESTRICTIONS MAY APPLY ON FEDERAL AND STATE PUBLIC HUNTING AREAS AND FEDERAL INDIAN RESERVATIONS.

Note: Successful permittees must immediately validate their harvest by that method required in State regulations.

| Season dates | Limits
ATLANTIC FLYWAY
North Carolina | Nov. 9-Jan. 31 | 1 tundra swan per season.
Virginia | Dec. 2-Jan 31 | 1 tundra swan per season.
CENTRAL FLYWAY (1)
Montana | Sept. 28-Jan. 2 | 1 tundra swan per season.
North Dakota | Sept. 28-Dec. 29 | 1 tundra swan per season.
South Dakota | Sept. 28-Dec. 22 | 1 tundra swan per permit.
PACIFIC FLYWAY (1)(2)
Montana (3) | Oct. 12-Dec. 1 | 1 swan per season.
Nevada (4)(5) | Oct. 12-Jan. 5 | 2 swans per season.
Utah (5)(6) | Oct. 5-Dec. 8 | 1 swan per season.
(1) See State regulations for description of area open to swan hunting.
(2) Any species of swan may be taken.
(3) In Montana, all harvested swans must be reported by way of a bill measurement card within 3 days of harvest.
(4) All harvested swans and tags must be checked or registered within 5 days of harvest.
(5) Harvests of trumpeter swans are limited to 5 in Nevada and 10 in Utah. When it has been determined that the quota of trumpeter swans allotted to Nevada and Utah will have been filled, the season for taking of any swan species in the respective State will be closed by either the Director upon giving public notice through local information media at least 48 hours in advance of the time and date of closing, or by the State through State regulations with such notice and time (not less than 48 hours) as they deem necessary.
(6) In Utah, all harvested swans and tags must be checked or registered within 3 days of harvest.

6. Section 20.109 is amended by:

a. Revising the introductory paragraphs;

b. Adding entries for the following States in alphabetical order to the table; and

c. Adding footnotes (4), (5), (6), and (7) following the table.

The revisions and additions read as follows:

§ 20.109 Extended seasons, limits, and hours for taking migratory game birds by falconry.

Subject to the applicable provisions of the preceding sections of this part, areas open to hunting, respective open seasons (dates inclusive), hawking hours, and daily bag and possession limits for the species designated in this section are prescribed as follows:

Hawking hours are one-half hour before sunrise until sunset except as otherwise restricted by State regulations.

Area descriptions were published in the August 22, 2013 (78 FR 52338) and August 23, 2013 (78 FR 52658) Federal Registers.

CHECK STATE REGULATIONS FOR ADDITIONAL RESTRICTIONS AND DELINEATIONS OF GEOGRAPHICAL AREAS. SPECIAL RESTRICTIONS MAY APPLY ON FEDERAL AND STATE PUBLIC HUNTING AREAS AND FEDERAL INDIAN RESERVATIONS.

Limits: The daily bag limit may include no more than 3 migratory game birds, singly or in the aggregate. The possession limit is three times the daily bag limit. These limits apply to falconry during both regular hunting seasons and extended falconry seasons—unless further restricted by State regulations. The falconry bag and possession limits are not in addition to regular season limits. Unless otherwise specified, extended falconry for ducks does not include sea ducks within the special sea duck areas.

Although many States permit falconry during the gun seasons, only extended falconry seasons are shown below. Please consult State regulations for details.

Note: The following seasons are in addition to the seasons published previously in the August 28, 2013, Federal Register (78 FR 53200).

| Extended falconry dates
ATLANTIC FLYWAY
Delaware
* * * * * * *
Ducks, mergansers, and coots | Jan. 27-Mar. 1.
Brant | Nov. 25-Dec. 21 & Jan. 27-Mar. 1.
Florida
* * * * * * *
Ducks, mergansers, light geese, and coots | Oct. 30-Nov. 12 & Feb. 3-Feb. 28.
Georgia
Ducks, moorhens, gallinules, and sea ducks | Dec. 2-Dec. 6 & Jan. 27-Jan. 29.
Maine
Ducks, mergansers, and coots (4):
North Zone | Dec. 12-Feb. 1.
South & Coastal Zones | Jan. 8-Feb. 28.
Maryland
* * * * * * *
Ducks | Jan. 31-Mar. 10.
Brant | Jan. 26-Mar. 10.
Light Geese | Feb. 16-Mar. 10.
Massachusetts
Ducks, mergansers, sea ducks, and coots | Oct. 5 & Feb. 1-Feb. 5.
New Hampshire
Ducks, mergansers, and coots:
Northern Zone | Dec. 1-Jan. 14.
Inland Zone | Nov. 4-Nov. 18 & Dec. 16-Jan. 14.
Coastal Zone | Jan. 25-Mar. 10.
New Jersey
Woodcock:
North Zone | Oct. 1-Oct. 18 & Nov. 25-Jan. 15.
South Zone | Oct. 1-Nov. 8 & Dec. 2-Dec. 18 & Jan. 2-Jan. 15.
Ducks, mergansers, coots, and brant:
North Zone | Jan. 16-Mar. 8.
South Zone | Jan. 17-Mar. 10.
Coastal Zone | Jan. 27-Mar. 10.
New York
Ducks, mergansers and coots:
Long Island Zone | Nov. 1-Nov. 27 & Jan. 27-Feb. 13.
Northeastern Zone | Oct. 1-Oct. 4 & Oct. 14-Oct. 25 & Dec. 16-Jan. 13.
Southeastern Zone | Oct. 1-Oct. 11 & Oct. 21-Nov. 16 & Jan. 7-Jan. 13.
Western Zone | Oct. 1-Oct. 25 & Dec. 9-Dec. 27 & Jan. 13.
North Carolina
* * * * * * *
Ducks, mergansers and coots | Oct. 21-Nov. 2 & Jan. 27-Feb. 15.
Pennsylvania
* * * * * * *
Ducks, mergansers, and coots:
North Zone | Dec. 2-Dec. 23 & Feb. 8-Mar. 10.
South Zone | Oct. 28-Nov. 14 & Feb. 5-Mar. 10.
Northwest Zone | Dec. 16-Dec. 26 & Jan. 29-Mar. 10.
Lake Erie Zone | Jan. 17-Mar. 10.
Canada Geese:
SJBP Zone | Mar. 1-Mar. 10.
AP Zone | Jan. 28-Mar. 10.
RP Zone | Mar. 4-Mar. 10.
South Carolina
Ducks, mergansers, and coots | Nov. 1-Nov. 22 & Dec. 2-Dec. 6 & Jan. 27-Jan. 29.
Virginia
* * * * * * *
Ducks, mergansers, and coots | Dec. 2-Dec. 6 & Jan. 27-Feb. 22.
Canada Geese:
Eastern (AP) Zone | Dec. 7-Dec. 17 & Jan. 30-Feb. 22.
Western (SJBP) Zone | Dec. 7-Dec. 13 & Feb. 17-Feb. 22.
Brant | Oct. 10-Dec. 21 & Jan. 27-Jan. 31.
MISSISSIPPI FLYWAY
Arkansas
Ducks, mergansers, and coots | Feb. 1-Feb. 15.
Illinois
* * * * * * *
Ducks, mergansers, and coots | Feb. 10-Mar. 10.
Indiana
* * * * * * *
Ducks, mergansers, and coots: | North Zone | Sept. 27-Sept. 30 & Feb. 14-Mar. 10.
Central Zone | Oct. 19-Oct. 25 & Feb. 17-Mar. 10.
South Zone | Oct. 26-Nov. 1 & Feb. 17-Mar. 10.
Iowa
Ducks, mergansers, and coots:
North Zone | Dec. 15-Jan. 28.
Missouri River Zone | Dec. 20-Feb. 2.
South Zone | Dec. 15-Jan. 28.
White-fronted Geese:
North Goose Zone | Dec. 11-Jan. 12.
Missouri River Zone | Dec. 25-Jan. 17.
South Goose Zone | Dec. 18-Jan. 17.
Kentucky
Ducks, mergansers, and coots | Nov. 5-Nov. 27 & Jan. 27-Jan. 31.
Geese | Nov. 5-Nov. 27.
Louisiana
* * * * * * *
Rails and moorhens:
West and East Zone | Nov. 4-Nov. 8 & Jan. 2-Feb. 2.
Coastal Zone | Nov. 4-Nov. 8 & Jan. 2-Jan. 31.
Ducks:
West Zone | Nov. 4-Nov. 15 & Dec. 16-Dec. 20 & Jan. 20-Feb. 2.
East Zone | Nov. 4-Nov. 22 & Dec. 9-Dec. 13 & Jan. 27-Feb. 2.
Coastal Zone | Nov. 4-Nov. 8 & Dec. 2-Dec. 13 & Jan. 20-Jan. 31.
Michigan
Ducks, mergansers, coots, and moorhens | Dec. 30-Feb. 2 & Mar. 1-Mar. 10.
Minnesota
* * * * * * *
Ducks, mergansers, coots, moorhens, and gallinules | Dec. 14-Jan. 28.
Mississippi
Doves | Nov. 16-Nov. 24 & Jan. 15-Feb. 9.
Ducks, mergansers and coots | Feb. 8-Mar. 10.
Missouri
* * * * * * *
Ducks, mergansers, and coots | Sept. 7-Sept. 22 & Feb. 10-Mar. 10.
Ohio
Ducks, mergansers, and coots | Sept. 1-Sept. 22 & Feb. 8-Mar. 2.
Geese | Sept. 1-Sept. 22 & Feb. 8-Feb. 12.
* * * * * * *
Wisconsin
Rails, snipe, moorhens, and gallinules:
North Duck Zone | Sept. 1-Sept. 20 & Nov. 20-Dec. 16.
South Duck Zone | Sept. 1-Sept. 27 & Oct. 7-Oct. 11 & Dec. 2-Dec. 16.
Mississippi River Zone | Sept. 1-Sept. 20 & Sept. 30-Oct. 11 & Dec. 2-Dec. 16.
Woodcock | Sept. 1-Sept. 21 & Nov. 5-Dec. 16.
Ducks, mergansers, and coots | Sept. 14-Sept. 15 & Jan. 10-Feb. 23.
CENTRAL FLYWAY
Kansas
Ducks, mergansers, and coots:
Low Plains | Feb. 24-Mar. 10.
* * * * * * *
Nebraska
Ducks, mergansers, and coots:
Zone 1 | Sept. 7-Sept. 22 & Feb. 25-Mar. 10.
Zone 2: |
Low Plains | Sept. 7-Sept. 22 & Feb. 25-Mar. 10.
High Plains | Sept. 7-Sept. 15.
Zone 3: |
Low Plains | Sept. 7-Sept. 15 & Feb. 25-Mar. 10.
High Plains | Sept. 7-Sept. 15.
Zone 4 | Sept. 7-Sept. 22 & Feb. 25-Mar. 10.
New Mexico
* * * * * * *
Common Moorhens | Dec. 7-Jan. 12.
* * * * * * *
Oklahoma
Ducks, mergansers, and coots:
Low Plains | Feb. 17-Mar. 3.
South Dakota
Ducks, mergansers, and coots:
High Plains | Sept. 1-Sept. 8.
Low Plains: |
North Zone | Sept. 1-Sept. 14 & Sept. 18-Sept. 22 & Dec. 11-Dec. 22.
Middle Zone | Sept. 1-Sept. 14 & Sept. 16-Sept. 20 & Dec. 11-Dec. 22.
South Zone | Sept. 1-Sept. 14 & Sept. 18-Oct. 4.
Texas
* * * * * * *
Ducks, mergansers, and coots:
Low Plains | Jan. 27-Feb. 10.
Wyoming
* * * * * * *
Ducks, mergansers, and coots:
Zone C1 | Sept. 28-Sept. 29 & Oct. 23-Oct. 30.
Zone C2 & C3 | Sept. 14-Sept. 20 & Dec. 2-Dec. 4.
PACIFIC FLYWAY
Arizona
* * * * * * *
Ducks and mergansers:
North Zone | Sept. 30-Oct. 3.
South Zone | Jan. 27-Jan. 30.
California
Ducks, mergansers, and coots:
Colorado River Zone | Jan. 27-Jan. 30.
Southern Zone | Jan. 27-Jan. 31.
Southern San Joaquin Zone | Jan. 27-Jan. 29.
Canada Geese and White-fronted Geese:
Northeastern Zone | Jan. 13-Jan. 17.
Colorado River Zone | Same as for Ducks.
Southern Zone (5) | Same as for Ducks.
Balance-of-State Zone (6) | Same as for Ducks.
Brant:
Northern Zone | Oct. 19-Nov. 6 & Dec. 7-Jan. 31.
Southern Zone | Oct. 19-Nov. 8 & Dec. 9-Jan. 31.
Light Geese:
Northeastern Zone | Jan. 13-Jan. 17.
Colorado River Zone | Same as for Ducks.
Southern Zone (5) | Same as for Ducks.
Balance-of-State Zone (6) | Same as for Ducks.
* * * * * * *
Nevada
Ducks, mergansers, geese, coots, moorhens, and snipe:
Northeast Zone | Sept. 21-Oct. 30 & Nov. 2-Jan. 5.
Northwest and South Zones (7) | Oct. 12-Oct. 30 & Nov. 2-Jan. 26.
* * * * * * *
* * * * * * *
(4) In Maine, the daily bag and possession limits for black ducks are 1 and 3, respectively.
(5) In California, the falconry season for geese is concurrent with the regular season for white geese in the Imperial County special management area.
(6) In California, the falconry season for geese is concurrent with the regular season for small Canada geese in Del Norte and Humbolt counties.
(7) In Nevada, in the South Zone, in the portion of Clark County that includes the Moapa Valley, the falconry season is only open November 2 to January 26.

[FR Doc. 2013-22862 Filed 9-20-13; 8:45 am]

BILLING CODE 4310-55-P